ENVIRONMENTAL PROTECTION AGENCY

40 CFR Part 180

[EPA-HQ-OPP-2007-0097; FRL-8122-7]

Captan, 2,4-D, Dodine, DCPA, Endothall, Fomesafen, Propyzamide, Ethofumesate, Permethrin, Dimethipin, and Fenarimol; Proposed Tolerance Actions

AGENCY: Environmental Protection Agency (EPA).

ACTION: Proposed rule.

SUMMARY: EPA is proposing to revoke certain tolerances for captan, 2,4-D, dodine, endothall, propyzamide, permethrin, ethofumesate and dimethipin. Also, EPA is proposing to modify certain tolerances for captan, 2,4-D, dodine, DCPA, endothall, propyzamide, permethrin, ethofumesate, and fomesafen. In addition, EPA is proposing to establish new tolerances for captan, 2,4-D, dodine, propyzamide, permethrin, and ethofumesate. The regulatory actions proposed in this document are in follow-up to the Agency's reregistration program under the Federal Insecticide, Fungicide, and Rodenticide Act (FIFRA), and the tolerance reassessment requirements of the Federal Food, Drug, and Cosmetic Act (FFDCA) section 408(q).

DATES: Comments must be received on or before August 6, 2007.

ADDRESSES: Submit your comments, identified by docket identification (ID) number EPA-HQ-OPP-2007-0097, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket telephone number is (703) 305-5805.

Instructions: Direct your comments to docket ID number EPA-HQ-OPP-2007-0097. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The Federal regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov web site to view the docket index or access available documents. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Jane Smith, Special Review and Reregistration Division (7508P), Office of Pesticide Programs, Environmental Protection Agency, 1200 Pennsylvania Ave., NW., Washington, DC 20460-0001; telephone number: (703) 308-0048; e-mail address: smith.jane-scott@epa.gov.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in Unit II.A. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

C. What Can I do if I Wish the Agency to Maintain a Tolerance that the Agency Proposes to Revoke?

This proposed rule provides a comment period of 60 days for any person to state an interest in retaining a tolerance proposed for revocation. If EPA receives a comment within the 60-day period to that effect, EPA will not proceed to revoke the tolerance immediately. However, EPA will take steps to ensure the submission of any needed supporting data and will issue an order in the Federal Register under FFDCA section 408(f) if needed. The order would specify data needed and the time frames for its submission, and would require that within 90 days some person or persons notify EPA that they will submit the data. If the data are not submitted as required in the order, EPA will take appropriate action under FFDCA.

EPA issues a final rule after considering comments that are submitted in response to this proposed rule. In addition to submitting comments in response to this proposal, you may also submit an objection at the time of the final rule. If you fail to file an objection to the final rule within the time period specified, you will have waived the right to raise any issues resolved in the final rule. After the specified time, issues resolved in the final rule cannot be raised again in any subsequent proceedings.

II. Background

A. What Action is the Agency Taking?

EPA is proposing to revoke, remove, modify, and establish specific tolerances for residues of the fungicides captan, dodine, and fenarimol; the herbicides 2,4-D, DCPA, endothall, propyzamide, ethofumesate, dimethipin and fomesafen; and the insecticide permethrin in or on the commodities listed in the regulatory text.

EPA is proposing these tolerance actions to implement the tolerance recommendations made during the reregistration and tolerance reassessment processes (including follow-up on canceled or additional uses of pesticides). As part of these processes, EPA is required to determine whether each of the amended tolerances meets the safety standard of the Food Quality Protection Act (FQPA). The safety finding determination of “reasonable certainty of no harm” is discussed in detail in each Reregistration Eligibility Decision (RED) and Report of the Food Quality Protection Act (FQPA) Tolerance Reassessment Progress and Risk Management Decision (TRED) for the active ingredient. REDs and TREDs recommend the implementation of certain tolerance actions, including modifications to reflect current use patterns, meet safety findings, and change commodity names and groupings in accordance with new EPA policy. Printed copies of many REDs and TREDs may be obtained from EPA's National Service Center for Environmental Publications (EPA/NSCEP), P.O. Box 42419, Cincinnati, OH 45242-2419; telephone 1 (800) 490-9198; fax 1 (513) 489-8695; internet at http://www.epa.gov/ncepihom/ and from the National Technical Information Service (NTIS), 5285 Port Royal Road, Springfield, VA 22161; telephone 1 (800) 553-6847 or (703) 605-6000; internet at http://www.ntis.gov/. Electronic copies of REDs and TREDs are available on the internet at http://www.epa.gov/pesticides/reregistration/status.htm.

The selection of an individual tolerance level is based on crop field residue studies designed to produce the maximum residues under the existing or proposed product label. Generally, the level selected for a tolerance is a value slightly above the maximum residue found in such studies. The evaluation of whether a tolerance is safe is a separate inquiry. EPA recommends the raising of a tolerance when data show that: (1) Lawful use (sometimes through a label change) may result in a higher residue level on the commodity; and, (2) the tolerance remains safe, not withstanding increased residue level allowed under the tolerance. In REDs, Chapter IV on “Risk Management, Reregistration, and Tolerance Reassessment” typically describes the regulatory position, FQPA assessment, cumulative safety determination, determination of safety for the U.S. general population, and safety for infants and children. In particular, the human health risk assessment document which supports the RED describes risk exposure estimates and whether the Agency has concerns. In TREDs, the Agency discusses its evaluation of the dietary risk associated with the active ingredient and whether it can determine that there is a reasonable certainty (with appropriate mitigation) that no harm to any population subgroup will result from aggregate exposure. EPA also seeks to harmonize tolerances with international standards set by the Codex Alimentarius Commission, as described in Unit III.

Explanations for proposed modifications in tolerances can be found in the RED and TRED document and in more detail in the Residue Chemistry Chapter document which supports the RED and TRED. Copies of the Residue Chemistry Chapter documents are found in the Administrative Record and electronic copies are available through EPA's electronic public docket and comment system, regulations.gov at http://www.regulations.gov/. You may search for docket number EPA-HQ-OPP-007-0097 and also EPA-HQ-OPP-2005-0266 (dodine); EPA-HQ-OPP-2004-0370 (endothall); EPA-HQ-OPP-2004-0380 (dimethipin); EPA-HQ-OPP-2002-0159 (propyzamide); EPA-HQ-OPP-2004-0346 (ethofumesate); EPA-HQ-OPP-2004-0385 (permethrin); EPA-HQ-OPP-2004-0167 (2,4-D); EPA-HQ-OPP-2004-0296 (Captan) and EPA-HQ-OPP-2002-0250 and EPA-HQ-OPP-2005-0459 (fenarimol), then click on that docket number to view its contents.

EPA has determined that the aggregate exposures and risks are not of concern for the above mentioned pesticide active ingredients based upon the data identified in the RED or TRED which lists the submitted studies that the Agency found acceptable.

EPA has found that the tolerances that are proposed in this document to be modified, are safe in accordance with FFDCA section 408(b)(2)(A), and that there is a reasonable certainty that no harm will result to infants and children from aggregate exposure to the pesticide chemical residues, in accordance with section 408(b)(2)(C). These findings are discussed in detail in each RED. The references are available for inspection as described in this document under SUPPLEMENTARY INFORMATION.

In addition, EPA is proposing to revoke certain specific tolerances because either they are no longer needed or are associated with food uses that are no longer registered under FIFRA. The registrations for these pesticide chemicals were canceled because the registrant failed to pay the required maintenance fee and/or the registrant voluntarily requested cancellation of one or more registered uses of the pesticide. It is EPA's general practice to propose revocation of those tolerances for residues of pesticide active ingredients on crop uses for which there are no active registrations under FIFRA, unless any person in comments on the proposal indicates a need for the tolerance to cover residues in or on imported commodities or domestic commodities legally treated.

1. Captan. Tolerances are currently established for both plant and animal commodities in 40 CFR 180.103(a) for residues of the fungicide, captan (N-trichloromethylthio-4-cyclohexene-1,2-dicarboximide) for preharvest and postharvest uses or combinations of such uses in or on plant and animal commodities. This use-pattern timing related language, preharvest and postharvest, is impractical and should be removed because enforcement officials would rarely be able to determine the timing of the application. Also, the Agency has determined that the residues of concern are captan per se in plants and that the metabolite 1,2,3,6-tetrahydrophthalimide (THPI) of captan is of toxicological concern and should be regulated in/on animal commodities along with captan. Therefore, EPA proposes transferring the tolerance expressions in 40 CFR 180.103(a) to (a)(1) for residues of the fungicide, captan (N-trichloromethylthio-4-cyclohexene-1,2-dicarboximide) in or on plant commodities retaining those plant-related tolerances and to transfer livestock tolerances into (a)(2) for the combined residues of the fungicide, captan (N-trichloromethylthio-4-cyclohexene-1,2-dicarboximide) and its metabolite 1,2,3,6-tetrahydrophthalimide (THPI), measured as THPI, in or on animal commodities. Currently, tolerances in 40 CFR 180.103(b) are for residues of captan on an interim basis for almonds, almond hulls, beans dry, beans succulent, and potatoes. The Agency has determined that these tolerances are no longer interim and should be moved to 40 CFR 180.103(a)(1). Also, to conform to current Agency practice, 40 CFR 180.103(b) should now be designated for section 18 emergency exemptions - reserved; add paragraph (c) for regional registrations - reserved; and add paragraph (d) for indirect or inadvertent residues - reserved. Therefore, EPA proposes that the interim tolerances listed in 40 CFR 180.103(b) be transferred to 40 CFR 180.103(a)(1); paragraph (b) be revised to (b) section 18 emergency exemptions - reserved; add paragraph (c) regional registrations - reserved; and add paragraph (d) indirect or inadvertent residues - reserved.

Based on available field trial data that indicate residues of captan as high as 0.18 parts per million (ppm) in/on almonds, 54.91 ppm in/on almond hulls, 7 ppm in/on apricot, 18.3 ppm in/on blueberries, 36 ppm in/on cherries, 22.4 ppm in/on grapes, 10 ppm in/on nectarines, 14 ppm in/on peach, 8 ppm in/on plum, 2 ppm in/on prune, 12 ppm in/on plum/prune juice, and 13 ppm in/on strawberries, the Agency determined that the tolerance should be decreased to 0.25 ppm in/on almonds, 75 ppm in/on almond hulls, 10 ppm in/on apricots, 20 ppm in/on blueberries, 50 ppm in/on cherries, 25 ppm in/on grapes, 25 ppm in/on nectarines, 15 ppm in/on peaches, 10 ppm in/on plums and 20 ppm in/on strawberry. The tolerance for strawberries was also decreased to harmonize with the Codex alimentarius. Therefore, EPA proposes decreasing tolerances in newly revised 40 CFR 180.103(a)(1) for captan residues of concern in plants in or on almond from 2 to 0.25 ppm; almond, hulls from 100 to 75 ppm; apricot from 50 to 10 ppm; blueberry from 25 to 20 ppm; cherry at 100 to cherry, sweet at 50 ppm and cherry, tart at 50 ppm; grape from 50 to 25 ppm; nectarine from 50 to 25 ppm; peach from 50 to 15 ppm; plum, prune, fresh from 100 to 10 ppm; and strawberry from 25 to 20 ppm.

Based on available data reflecting seed treatment use, residues of captan were <0.05 ppm (the level of detection) in or on dry and succulent beans, peas and soybeans; therefore, the Agency determined that the tolerances should be 0.05 ppm on vegetable, legume, group 6 and vegetable, foliage of legume, group 7, replacing the individual tolerances. Therefore, EPA proposes decreasing and modifying the individual tolerances to a crop group tolerance in newly revised 40 CFR 180.103(a)(1) for captan residues of concern in plants in/on beans, dry, seed at 25 ppm; bean, succulent at 25 ppm; pea, dry, seed at 2 ppm; pea, succulent at 2 ppm; soybean, dry at 2 ppm; soybean, succulent at 2 ppm to vegetable, legume, group 6 at 0.05 ppm and vegetable, foliage of legume, group 7 at 0.05 ppm.

Based on available data reflecting seed treatment use, residues of captan were <0.05 ppm (the level of detection) in or on garden beets, carrots, rutabagas, potatoes, and turnips; therefore, the Agency determined that the tolerances should be 0.05 ppm on vegetable, root and tuber, group 1 and vegetable, leaves of root and tuber, group 2, replacing the individual tolerances. Therefore, EPA proposes decreasing and modifying the individual tolerances to a crop group tolerances in newly revised 40 CFR 180.103(a)(1) for captan residues of concern in plants in/on beet, garden, roots at 2 ppm; beet, garden, tops at 100 ppm; carrot, roots at 2 ppm; potato at 25 ppm; rutabagas (roots) at 2 ppm; turnip, greens at 2.0 ppm; turnip, roots at 2.0 ppm to vegetable, root and tuber, group 1 at 0.05 ppm and vegetable, leaves of root and tuber, group 2 at 0.05 ppm.

Based on available data reflecting seed treatment use, residues of captan were <0.05 ppm (the level of detection) in or on broccoli, Brussels sprouts, cabbage, cauliflower, collards, kale, and mustard greens; therefore, the Agency determined that the tolerance should be 0.05 ppm on vegetable, brassica leafy, group 5 replacing the individual tolerances. Therefore, EPA proposes decreasing and modifying the individual tolerances to a crop group tolerance in newly revised 40 CFR 180.103(a)(1) for captan residues of concern in plants in/on broccoli, Brussels sprouts, cabbage, cauliflower, collards, kale, mustard greens each at 2 ppm to vegetable, brassica leafy, group 5 at 0.05 ppm.

Based on available data reflecting seed treatment use, residues of captan were <0.05 ppm (the level of detection) in or on cantaloupe, cucumber, honeydew melon, muskmelon, pumpkins, summer squash, winter squash, and watermelons; therefore, the Agency determined that the tolerance should be 0.05 ppm on vegetable, cucurbit group 9 replacing the individual tolerances. Therefore, EPA proposes decreasing and modifying the individual tolerances to a crop group tolerance in newly revised 40 CFR 180.103(a)(1) for captan residues of concern in plants in/on cantaloupe; cucumber; melon, honeydew; muskmelon; pumpkin; squash, summer; squash, winter; and watermelon each at 25 ppm to vegetable, cucurbit, group 9 at 0.05 ppm.

Based on available data reflecting seed treatment use, residues of captan were <0.05 ppm (the level of detection) in or on celery, lettuce, and spinach; therefore, the Agency determined that the tolerance should be 0.05 ppm on vegetable, leafy, except brassica, group 4 replacing the individual tolerances. Therefore, EPA proposes decreasing and modifying the individual tolerances to a crop group tolerance in newly revised 40 CFR 180.103(a)(1) for captan residues of concern in plants in/on celery at 50 ppm, lettuce at 100 ppm, and spinach at 100 ppm to vegetable, leafy, except brassica, group 4 at 0.05 ppm.

Based on available data reflecting seed treatment use, residues of captan were <0.05 ppm (the level of detection) in or on eggplant, peppers, and tomato; therefore, the Agency determined that the tolerance should be 0.05 ppm on vegetable, fruiting, group 8 replacing the individual tolerances. Therefore, EPA proposes decreasing and modifying the individual tolerances to a crop group tolerance in newly revised 40 CFR 180.103(a)(1) for captan residues of concern in plants in/on eggplant; pepper; and tomato each at 25 ppm to vegetable, fruiting, group 8 at 0.05 ppm.

Based on available data reflecting seed treatment use, residues of captan were <0.05 ppm (the level of detection) in or on bulb onion and green onion; therefore, the Agency determined that the tolerance should be 0.05 ppm on vegetable, bulb, group 3 replacing the individual tolerances. Therefore, EPA proposes decreasing and modifying the individual tolerances to a crop group tolerance in newly revised 40 CFR 180.103(a)(1) for captan residues of concern in plants in/on onion, bulb at 25 ppm and onion, green at 50 ppm to vegetable, bulb, group 3 at 0.05 ppm.

Based on available data reflecting seed treatment use, residues of captan were <0.05 ppm (the level of detection) in or on corn; therefore, the Agency determined that the tolerance should be 0.05 ppm on grain, cereal, group 15 and grain, cereal, forage, fodder and straw, group 16 replacing the tolerance corn, sweet, kernel plus cob with husks removed. Therefore, EPA proposes decreasing and modifying a tolerance to crop group tolerances in newly revised 40 CFR 180.103(a)(1) for captan residues of concern in plants in/on corn, sweet, kernel plus cob with husks removed at 2 ppm to grain, cereal, group 15 and grain, cereal, forage, fodder and straw, group 16 at 0.05 ppm.

The Agency has determined that tolerances for blackberry, dewberry and raspberry each at 25 ppm should be replaced by the crop group tolerance caneberry, subgroup 13A at 25 ppm. Therefore, EPA proposes modifying the individual tolerances to a crop group tolerance in newly proposed 40 CFR 180.103(a) for captan residues of concern in plants in/on blackberry, dewberry, and raspberry each at 25 ppm to caneberry, subgroup 13A at 25 ppm.

Based on available data reflecting seed treatment use, residues of captan were <0.05 ppm (the level of detection) in or on cottonseed; dill seed; flax seed; grass forage; grass, hay; non-grass animal feeds group 18; okra; peanuts; peanut hay; rapeseed; rapeseed forage; safflower seed; sesame seed; and sunflower seed; therefore, the Agency determined that the tolerances should each be 0.05 ppm. Tolerances for flax straw and sunflower forage are no longer necessary because these commodities are not considered significant feed items in accordance with “Table 1.—Raw Agricultural and Processed Commodities and Feedstuffs Derived from Crops'' which is found in Residue Chemistry Test Guidelines OPPTS 860.1000 dated August 1996, available at http://www.epa.gov/opptsfrs/publications/OPPTS Harmonized/860 Residue Chemistry Test Guidelines/Series. Therefore, EPA is proposing to establish tolerances in 40 CFR 180.103(a)(1) for captan residues of concern in or on dill, seed at 0.05 ppm; flax, seed at 0.05 ppm; grass, forage at 0.05 ppm; grass, hay at 0.05 ppm; animal feed, nongrass, group 18 at 0.05 ppm; okra at 0.05 ppm; peanut at 0.05 ppm; peanut, hay at 0.05 ppm; rapeseed, seed at 0.05 ppm; rapeseed, forage at 0.05 ppm; safflower, seed at 0.05 ppm; sesame, seed at 0.05 ppm; and sunflower, seed at 0.05 ppm and decrease cotton, undelinted seed from 2 to 0.05 ppm.

Based on the livestock dietary burden from wet apple pomace and animal feed commodities from seed treatments, the maximum theoretical dietary burden of captan residues of concern for dairy cattle is 17.27 ppm and beef cattle is 27.72 ppm. Using the results of the 30 ppm feeding level from the animal feeding study, the expected residue levels are 0.11 ppm in fat; 0.25 ppm in kidney (meat byproducts); 0.18 ppm in muscle; and 0.06 ppm in milk. Based on these data, the Agency has determined that the tolerances in cattle, goat, horse, hog and sheep should be: 0.20 ppm in meat; 0.30 ppm in meat byproducts; 0.15 ppm in fat; and 0.10 ppm in milk (where sheep meat, fat and meat byproducts tolerances reflect the text in the tolerance reassessment of the RED versus the table C which is not accurate). Therefore, EPA proposes increasing the tolerances in newly revised 40 CFR 180.103(a)(2) for the combined residues of the fungicide, captan (N-trichloromethylthio-4-cyclohexene-1,2-dicarboximide) and its metabolite 1,2,3,6-tetrahydrophthalimide (THPI) in or on cattle, fat from 0.05 to 0.15 ppm; cattle, meat from 0.05 to 0.20 ppm; cattle, meat byproducts from 0.05 to 0.30 ppm; hog, fat from 0.05 to 0.15 ppm; hog, meat from 0.05 to 0.20 ppm; hog, meat byproducts from 0.05 to 0.30 ppm and proposes establishing tolerances in newly revised 40 CFR 180.103(a)(2) in/on goat, fat at 0.15 ppm; goat, meat at 0.20 ppm; goat, meat byproducts at 0.30 ppm; horse, fat at 0.15 ppm; horse, meat at 0.20 ppm; horse, meat byproducts at 0.30 ppm; milk at 0.10 ppm; sheep, fat at 0.15 ppm; sheep, meat at 0.20 ppm; and sheep, meat byproducts at 0.30 ppm. The Agency determined that the increased tolerances are safe; i.e., there is a reasonable certainty that no harm will result from aggregate exposure to the pesticide chemical residue.

The last registered use of captan on mangoes was canceled in 1998; therefore, the tolerance is no longer needed. Therefore, EPA is proposing to revoke the existing tolerance for mango at 50 ppm in newly revised 40 CFR 180.103(a)(1).

The proposed tolerance actions herein for captan, to implement the recommendations of the captan RED, reflect use patterns in the U.S. which support a different tolerance than the Codex level on almonds, cucumbers, nectarines, raspberries, and tomatoes, because of differences in good agricultural practices. However, compatibility exists for apples and pears will exist between the proposed reassessed U.S. tolerances and Codex MRLs for captan residues in or on blueberries, peaches, potatoes, and strawberries.

2. 2,4-D. Currently, tolerances for residues of 2,4-D in or on plant raw agricultural commodities fish and potable water are currently expressed in terms of 2,4-D (2,4-dichlorophenoxyacetic acid) in 40 CFR 180.142(a)(1-2, 4-7 and 9-13). The residues are regulated depending on the use pattern, the form of the 2,4-D formulation applied (e.g., acid, salts), timing of treatment (preharvest or postharvest) and some commodities are covered by two or more tolerances (e.g., citrus). This use-pattern related language is impractical and should be removed for three reasons:

i. 2,4-D in the acid form as well as the sodium salt, four amine salts, and three esters upon contact with water and/or hydrolytic enzymes are converted to a single common moiety, 2,4-D (anion or acid depending on the pH) which is the pesticidally active component serving as the basis for the tolerance regulation. Consequently, the available tolerance enforcement methodology cannot distinguish between which form of the pesticidally active component was applied.

ii. If 2,4-D residues were detected in a commodity, enforcement officials would rarely be able to determine who applied the pesticide, when, or for what purpose.

iii. If the 2,4-D concentration were to fall between two tolerance levels for the same commodity, the Agency would not know whether the sample was violative.

Therefore, EPA is proposing to subsume the lower tolerances in the higher existing tolerances, delete use-pattern related language (e.g., timing and formulation), and revise the tolerances in 40 CFR 180.142(a)(1-2, 4-7 and 9-13) into 40 CFR 180.142(a) for residues of the herbicide, plant regulator, and fungicide 2,4-D (2,4-dichlorophenoxyacetic acid), both free and conjugated, determined as the acid and delete the paragraphs designations (1-2, 4-7, and 9-13).

The available field trial data indicate residues of 2,4-D are as high as 1.39 ppm in or on wheat grain. The wheat grain data are translated to support tolerances for barley, millet, oats and rye grain. Based on these data, the Agency determined that the tolerance should be increased to 2.0 ppm on wheat, barley, millet, oats and rye grain. Based on available field trial data that indicate residues of 2,4-D as high as 24.9 ppm and 40.9 ppm in or on wheat forage and wheat straw, respectively, which is also translated to millet, oats and rye forage and millet straw, the Agency determined that the tolerances should be increased to 25 ppm in/on wheat, millet, oats, and rye forage and 50 ppm in/on millet straw. Based on available field trial data that indicate residues of 2,4-D as high as 49.8 ppm in/on corn stover; 0.053 ppm in/on hops; 0.31 ppm in/on potatoes; <0.01 ppm in/on strawberry; and 0.485 ppm in/on rice, the Agency determined that the tolerances should be increased to 50 ppm in/on corn, stover; 0.2 ppm in/on hop; 0.4 in/on potato; 0.01 ppm in/on strawberry; and 0.5 ppm in/on rice, grain. EPA is also revising commodity terminology to conform to current Agency practice. Therefore, EPA is proposing to increase and revise tolerances in newly revised 40 CFR 180.142(a) for the combined 2,4-D residues of concern in or on barley, grain from 0.5 to 2.0 ppm; millet, grain from 0.5 to 2.0 ppm; oat, grain from 0.5 to 2.0 ppm; rye, grain from 0.5 to 2.0 ppm; wheat, grain from 0.5 to 2.0 ppm; millet, straw from 20 to 25 ppm; millet, forage from 20 to 25 ppm; oat, forage from 20 to 25 ppm; rye, forage 20 to 25 ppm; wheat, forage from 20 to 25 ppm; rice grain from 0.1 to 0.5 ppm; corn, stover from 20 to 50 ppm; hop from 0.05 to 0.2 ppm; potato from 0.2 to 0.4 ppm; and strawberry from 0.05 to 0.1 ppm and revise corn, stover to corn, field, stover; corn, pop, stover; and corn, sweet, stover; and revise hop to hop, dried cones. The Agency determined that the increased tolerances are safe; i.e., there is a reasonable certainty that no harm will result from aggregate exposure to the pesticide chemical residue.

Based on available field trial data on field corn, pop corn, and sweet corn that indicate residues of 2,4-D as high as 5.2 ppm in/on corn forage, <0.05 ppm in/on corn fresh, sweet, kernel plus cob with husks removed, and 0.038 ppm in/on corn grain, the Agency determined that the tolerances should be decreased to 6.0 ppm, 0.05 ppm, and 0.05 ppm, respectively. Based on available field trial data that indicate residues of 2,4-D as high as 0.07 ppm in/on fish, 0.079 ppm in/on grapefruits, 0.24 ppm in/on oranges, and 2.5 ppm in/on lemons, the Agency determined that the tolerances should be decreased to 0.10 ppm in/on fish and to 3.0 ppm in/on fruit, citrus, group 10. Based on available field trial data that indicate residues of 2,4-D as high as <0.01 ppm in/on apples and pears, the Agency determined that the tolerance should be decreased to 0.1 ppm in/on fruit, pome, group 11 replacing the individual tolerances for apple, pear, and quince. Based on available field trial data that indicate residues of 2,4-D as high as <0.05 ppm in/on cherries, <0.01 ppm in/on peaches, and <0.01 ppm in/on plums, the Agency determined that the tolerance should be decreased to 0.1 ppm in/on fruit, stone group 12 replacing the individual tolerance for apricots. Based on available field trial data that indicate residues of 2,4-D as high as <0.05 ppm in/on pistachio; <0.1 in/on grapes; 358 ppm in/on grass, pasture and rangeland; 8.83 ppm in/on rice, straw; 0.162 ppm in/on sorghum, forage; 0.012 ppm in/on sorghum, grain; 0.17 ppm in/on sorghum, grain, stover; 0.015 ppm in/on sugarcane; and 0.105 ppm in/on sugarcane, molasses, the Agency determined that the tolerances should be decreased to 0.05 ppm in/on pistachio; 0.1 ppm in/on grape; 300 ppm in/on grass, hay; 360 ppm in/on grass, pasture and grass, rangeland; 10 ppm in/on rice, straw; 0.2 ppm in/on sorghum, forage; 0.2 ppm in/on sorghum, grain; 0.2 ppm in/on sorghum, grain, stover; 0.05 ppm in/on sugarcane; and 0.2 ppm in/on sugarcane, molasses. EPA is also revising commodity terminology to conform to current Agency practice. Therefore, EPA is proposing to decrease and revise tolerances in newly revised 40 CFR 180.142(a) for the combined 2,4-D residues of concern in or on corn, forage from 20 to corn, field, forage; and corn, sweet, forage at 6.0; corn, fresh, sweet, kernel plus cob with husks removed at 0.5 to corn, sweet, kernel plus cob with husks removed at 0.05 ppm; corn, grain at 0.5 to corn, field, grain at 0.05 ppm and corn, pop, grain at 0.05 ppm; fish, 1.0 to 0.10 ppm; fruit, citrus at 5 ppm to fruit, citrus, group 10 at 3.0 ppm; fruit, pome at 0.1 and apple, pear, and quince at 5 ppm to fruit, pome, group 11 at 0.1 ppm; apricot at 5 ppm and fruit, stone at 0.2 ppm to fruit, stone, group 12 at 0.1 ppm; pistachio at 0.05 ppm; grape from 0.5 to 0.1 ppm; grass, pasture and grass, rangeland from 1,000 ppm to grass, forage at 360 ppm; rice, straw from 20 to 10 ppm; sorghum, forage from 20 to sorghum, grain, forage at 0.2 ppm; sorghum, grain from 0.5 to sorghum, grain, grain at 0.2 ppm; sorghum, grain, stover from 20 to 0.2 ppm; sugarcane, cane from 2 ppm to 0.05 ppm; and sugarcane, molasses from 5 to 0.2 ppm.

Based on available field trial data that indicate residues of 2,4-D as high as 0.106 ppm in cranberry, <0.05 ppm in low bush (berries), and 0.011 ppm in high bush (berries), the Agency has determined the tolerance should be revised to 0.2 ppm in/on berry, group 14 in place of the individual tolerances. These tolerances are also being maintained to cover inadvertent or indirect residues that may occur. Therefore, EPA proposes revising the tolerances in newly revised 40 CFR 180.142(a) for the combined 2,4-D residues of concern in or on blueberry at 0.1 ppm, cranberry at 0.5 ppm, raspberry at 0.1 ppm and small fruit at 0.1(N) to berry, group 14 at 0.2 ppm. The Agency determined that the increased tolerances are safe; i.e., there is a reasonable certainty that no harm will result from aggregate exposure to the pesticide chemical residue.

Based on available field trial data that indicate residues of 2,4-D as high as 0.098 ppm in/on almond hulls; 1.48 ppm in on corn aspirated grain fractions (AGF) and 36.3 ppm in/on wheat AGF; 40.9 ppm in/on wheat straw, 3.88 ppm in/on wheat bran, and 1.40 ppm in/on rice, hulls; <0.01 ppm in/on soybean forage; 1.13 ppm in/on soybean hay; and <0.01 ppm in/on soybean seeds, the Agency determined that tolerances should be established in/on almond, hulls at 0.1 ppm; grain, aspirated fractions 40 ppm; wheat, straw at 50 ppm (and translating the wheat straw data to barley, oat, and rye); barley, straw at 50 ppm; oat, straw at 50 ppm; rye, straw at 50 ppm; wheat, bran at 4.0 ppm (and translating the wheat bran data to barley and rye) barley, bran at 4.0 ppm; rye, bran at 4.0 ppm; rice, hulls at 2.0 ppm; soybean, forage at 0.02 ppm; soybean, hay at 2.0 ppm; and soybean, seed at 0.02 ppm. Therefore, EPA is proposing to establish the tolerances in newly revised 40 CFR 180.142(a) for the combined 2,4-D residues of concern in or on almond, hulls at 0.1 ppm; barley, bran at 4.0 ppm; barley, straw at 50 ppm; grain, aspirated fractions at 40 ppm; oat, straw at 50 ppm; rice, hulls at 2.0 ppm; rye, bran at 4.0 ppm; rye, straw at 50 ppm; soybean, hay at 2.0 ppm; soybean, forage at 0.02 ppm; soybean, seed at 0.02 ppm; wheat, bran at 4.0 ppm; and wheat, straw at 50 ppm.

In addition, tolerances for residues in food products of animal origin are currently expressed in terms of 2,4-D and/or its metabolite 2,4-dichlorophenol (2,4-DCP) in 40 CFR 180.142(a)(8). The Agency has determined that the metabolite, 2,4-DCP, is not of concern for either the tolerance expression or for risk assessment at the minute levels expected in livestock tissues and considering the likely lower toxicity of 2,4-DCP compared to 2,4-D. Consequently, the regulated residues of 2,4-D are now the same for plants, shellfish, fish, and foods of animal origin. Therefore, EPA is proposing to change the residues of concern, transfer the foods of animal origin tolerances in 40 CFR 180.142(a)(8) into 40 CFR 180.142(a) for the combined 2,4-D residues of concern and delete paragraph (a)(8).

Ruminant feeding data at an exaggerated level (1.7x) show that 2,4-D residues are as high as 0.51 ppm in fat, 0.24 ppm in meat, 0.2 ppm in liver, 6.48 ppm in kidney, and 0.07 ppm in milk. These studies also showed that 2,4-D is rapidly excreted from animals. Based on the rapid excretion and residue levels on the last day of dosing in feeding studies, the Agency has determined that the 2,4-D tolerance in milk may be decreased to 0.05 ppm and to 0.3 ppm in the fat of cattle, goats, horses, and sheep. The tolerances should be increased to 4.0 ppm in the kidneys of cattle, goats, horses, and sheep and to 0.3 ppm in the meat and meat byproducts of cattle, goats, horses, and sheep. Therefore, EPA is proposing to increase tolerances in newly revised 40 CFR 180.142(a) for the combined 2,4-D residues of concern in or on cattle, kidney from 2 to 4.0 ppm; goat, kidney from 2 to 4.0 ppm; horse, kidney from 2 to 4.0 ppm; and sheep, kidney from 2 to 4.0 ppm; cattle, meat from 0.2 to 0.3 ppm; goats, meat from 0.2 to 0.3 ppm; horses, meat from 0.2 to 0.3 ppm; sheep, meat from 0.2 to 0.3 ppm; cattle, meat byproducts, except kidney from 0.2 to 0.3 ppm; goats, meat byproducts, except kidney from 0.2 to 0.3 ppm; horses, meat byproducts, except kidney from 0.2 to 0.3 ppm; and sheep, meat byproducts, except kidney from 0.2 to 0.3 ppm; cattle, fat from 0.2 to 0.3 ppm; goat, fat from 0.2 to 0.3 ppm; horse, fat from 0.2 to 0.3 ppm; sheep, fat from 0.2 to 0.3 ppm; and decrease milk from 0.1 to 0.05 ppm. The Agency determined that the increased tolerances are safe; i.e., there is a reasonable certainty that no harm will result from aggregate exposure to the pesticide chemical residue.

Based on the results of a 2,4-D poultry metabolism study, there is no reasonable expectation of finite residues in poultry tissues and eggs (Category 3 of 40 CFR 180.6(a)(3)) when 2,4-D is applied according to registered use directions. Therefore, the Agency determined that tolerances for residues of 2,4-D in poultry commodities are not needed. In addition, as the lowest feeding level for cattle was 940x the maximum theoretical dietary burden for swine, the maximum expected residues in hog tissues would be 0.007 ppm (kidney). Accordingly, there is no reasonable expectation of finite residues in hog commodities (Category 3 of 40 CFR 180.6(a)(3)); therefore, the Agency has determined tolerances associated with hog tissues are no longer needed and should be revoked. Therefore, EPA is proposing to revoke the tolerances in newly revised 40 CFR 180.142(a) for 2,4-D residues of concern in or on egg at 0.05 ppm; hog, fat; hog, meat; and hog, meat byproducts, except kidney at 0.2 ppm; hog, kidney at 2 ppm; and poultry at 0.05 ppm.

Tolerances listed in 40 CFR 180.142(a)(3) are currently established for negligible residues of 2,4-D in irrigated crops from application of its dimethylamine salt in the western United States (U.S.). Specifically, the tolerances on fruit, citrus; fruit, pome; fruit, stone; grain, crop; root crop vegetables; grass, forage; hop; small fruit (newly termed berry, group 14) and nut each at 0.1(N) ppm in 40 CFR 180.142(a)(3) have existing tolerances in newly revised 40 CFR 180.142(a) which are high enough to cover any inadvertent residues on these commodities. The tolerances associated with commodities that do not receive direct treatment of 2,4-D in 40 CFR 180.142(a)(3)—avocado; cotton, undelinted seed; cucurbits; grain, crop; leafy vegetables; legume forage; root crop vegetables; seed and pod vegetables; and vegetable, fruiting each at 0.1(N) should be transferred to 40 CFR 180.142(d) as they cover inadvertent and indirect residues. Therefore, EPA is proposing that commodities and tolerances in 40 CFR 180.142(a)(3) that are duplicative of commodities and tolerances in newly revised 40 CFR 180.142(a) be removed from 40 CFR 180.142 (a)(3). EPA is also proposing that the remaining commodities and tolerance combinations in 40 CFR 180.142(a)(3) (avocado; cotton, undelinted seed; cucurbits; grain, crop; leafy vegetables; legume forage; root crop vegetables; seed and pod vegetables; and vegetable, fruiting each at 0.1(N)) be transferred in 40 CFR 180.142(d) for inadvertent or indirect residues of the herbicide, plant regulator, and fungicide 2,4-D (2,4-dichlorophenoxyacetic acid), both free and conjugated, determined as the acid and delete 40 CFR 180.142(a)(3).

The available irrigated crop residue data for leafy vegetables and legume, forage had maximum residue levels of 0.33 ppm and 0.15 ppm, respectively; therefore, the Agency has determined the tolerances should be increased from 0.1(N) to 0.4 ppm and 0.2 ppm, respectively. The available residue data for inadvertent residue levels on the remaining crops (avocado, cotton, cucurbits, bulbs in the root crop vegetables, seed and pod vegetables and fruiting vegetables) do not exceed the level of quantitation of 0.05 ppm and two times the level of quantitation for direct uses on the root and tubers of the root crop vegetables; therefore, the Agency determined the tolerances should be decreased to 0.05 ppm. Based on the available irrigation data, the resulting direct and inadvertent residues are expected to be ≤0.1 ppm in/on the bulbs in the root crop vegetables; therefore, the Agency has determined the tolerance level and terminology should be at 0.5 ppm in/on vegetable, bulb, group 3, 0.1 ppm in/on vegetable, root and tuber, except potato, group 1 and vegetable, leaves of root and tuber, except potato, group 2. EPA is also proposing to revise commodity terminology and removing the “(N)” designation for negligible residues to conform to current Agency practice. Therefore, EPA is proposing to revise and modify tolerances in 40 CFR 180.142(d) for the combined 2,4-D residues of concern by decreasing and revising avocado from 0.1 (N) to 0.05 ppm; cotton, undelinted seed from 0.1(N) to 0.05 ppm; cucurbits at 0.1(N) to vegetable, cucurbit, group 9 at 0.05 ppm; root crop vegetables at 0.1 (N) to vegetable, bulb, group 3 at 0.05 ppm; vegetable, fruiting at 0.1(N) to vegetable, fruiting, group 8 at 0.05 ppm; vegetable, seed and pod at 0.1 (N) to vegetable, legume, group 6 at 0.05 ppm, okra at 0.05 ppm and dill, seed at 0.05 ppm; increasing and revising legume forage at 0.1(N) to vegetable, foliage of legume, group 7 at 0.2 ppm and animal feed, nongrass, group 18 at 0.2 ppm; vegetable, leafy at 0.1(N) to vegetable, brassica leafy, group 5 at 0.4 ppm and vegetable, leafy, except brassica, group 4 at 0.4 ppm; and in 40 CFR 180.142(a) further revise the tolerance vegetable, root at 0.1(N) to vegetable, root and tuber, except potato, group 1; and vegetable, leaves of root and tuber, except potato, group 2 at 0.1 ppm. The Agency determined that the increased tolerances are safe; i.e., there is a reasonable certainty that no harm will result from aggregate exposure to the pesticide chemical residue.

Based on available field trial data that indicate residues of 2,4-D as high as <0.05 ppm in/on wild rice in Minnesota, the Agency has determined that a regional tolerance should be established at 0.05 ppm in/on rice, wild, grain. Therefore, EPA proposes removing the expired (12/31/05) section 18 emergency exemption in/on wild rice at 0.1 ppm in 40 CFR 180.142(b), reserving the paragraph, and establishing a regional tolerance in 40 CFR 180.142(c) for residues of the herbicide, plant regulator, and fungicide 2,4-D (2,4-dichlorophenoxyacetic acid), both free and conjugated, determined as the acid, in/on rice, wild, grain at 0.05 ppm.

Currently, there is a tolerance for residues of 2,4-D in potable water at 0.1(N) ppm in 40 CFR 180.142(a). Pesticide residues in water are now under the purview of EPA's Office of Water where a maximum contaminant level of 0.07 ppm has been established for 2,4-D in drinking water. Sugarcane bagasse is no longer considered a significant animal feed item; therefore, the Agency has determined the tolerance on sugarcane bagasse is no longer needed and should be revoked. Based on available field trial data that indicate residues of 2,4-D as high as 0.095 ppm, <0.05 ppm, and 0.16 ppm in/on filberts, pecans, and almonds, respectively, the Agency has determined the tolerance should be maintained at 0.2 ppm in/on nuts. EPA is also revising commodity terminology to conform to current Agency practice. Therefore, EPA proposes revoking the potable water tolerance at 0.01(N) ppm and sugarcane bagasse at 5 ppm in newly revised 40 CFR 180.142(a), and revising the tolerance in 180.142(a) in/on nut to nut, tree, group 14.

There are tolerances listed in newly revised 40 CFR 180.142(a) (formerly 40 CFR 180.142(a)(6)) that regulate “crops in paragraph (c) of this section at 1.0 ppm” and “crops groupings in paragraph (c) of this section at 1.0 ppm” that should be removed because tolerances in newly recodified 40 CFR 180.142(a) and (d) will be sufficient to cover inadvertent residues in irrigated crops to which these tolerances originally referred. Tolerances also exist in newly revised 40 CFR 180.142(a) (formerly 40 CFR 180.142(a)(12) and 13)) as follows; “2 ppm in the milled fractions (except flour) derived from barley, oats, rye, and wheat to be ingested as food or be converted to food” and “2 ppm in the milled fractions derived from barley, oats, rye, and wheat to be ingested as animal feed or converted into animal feed” should be removed because tolerances for direct and inadvertent residues of 2,4-D in barley, rye and wheat bran are newly established in newly revised 40 CFR 180.142(a) and tolerances in other small grain processed products are not necessary as residues do not concentrate upon processing. Therefore, EPA is proposing to remove the tolerances in newly revised 40 CFR 180.142(a) “crops in paragraph (c) of this section at 1.0 ppm”; “crops groupings in paragraph (c) of this section at 1.0 ppm”; “2 ppm in the milled fractions (except flour) derived from barley, oats, rye, and wheat to be ingested as food or be converted to food”; and “2 ppm in the milled fractions derived from barley, oats, rye, and wheat to be ingested as animal feed or converted into animal feed.”

The proposed tolerance actions herein for 2,4-D, to implement the recommendations of the 2,4-D RED, reflect use patterns in the U.S. which support a different tolerance than the Codex level on berries; citrus; meat byproducts; grass hay and fodder; corn forage and fodder; meat; pome fruits; potato; rice, grain; sorghum grain; soybeans; and wheat straw because of differences in good agricultural practices. However, compatibility currently exists or will exist between the proposed reassessed U.S. tolerances and Codex MRLs for 2,4-D residues in or on corn grain, rice straw, rye grain, sorghum forage, stone fruits, sugarcane, sweet corn, tree nuts, and wheat grain.

3. Dodine. Based on available field trial data that indicate residues of dodine as high as 2.2 ppm in/on cherries and to harmonize with the Codex MRL of 3 ppm, the Agency has determined that the tolerance should be decreased to 3.0 ppm on cherry, sweet and cherry, tart. Therefore, EPA proposes decreasing the tolerance in 40 CFR 180.172(a) for residues of dodine in or on cherry, sweet from 5.0 to 3.0 ppm and cherry, tart from 5.0 to 3.0 ppm.

Based on the available apple field trial and processing data that indicate residues of dodine are as high as 2.58 ppm in/on apples and a concentration factor of 5.13x in apple pomace (wet), the Agency has determined that a tolerance should be established in/on apple, wet pomace at 15.0 ppm. Therefore, EPA proposes establishing a tolerance in 40 CFR 180.172(a) for residues of dodine in/on apple, wet pomace at 15.0 ppm.

Based on the results of the dodine animal metabolism study, there is no reasonable expectation of finite residues in animal tissues or milk (category 3 of 40 CFR 180.6(a)(3)); therefore, the Agency has determined that the tolerances for milk and meat are no longer needed and should be revoked. In the RED, a tolerance for plum was recommended at 5 ppm; however, there are no longer any uses in/on plums so the tolerance is not being established. Additionally, use of dodine on spinach is no longer a registered use, the Agency has determined the regional tolerance for spinach at 12.0 ppm should be revoked. Therefore, EPA is proposing to revoke tolerances in 40 CFR 180.172(a) for residues of dodine in/on meat and milk at 0 ppm and 40 CFR 180.172(b) for residues of dodine in/on spinach at 12.0 ppm and reserve and redesignate paragraph (b) as paragraph (c) for tolerances with regional registrations.

In order to conform to the adopted format in the CFR for 40 CFR part 180, EPA proposes revising 40 CFR 180.172 by adding paragraph (b) section 18 emergency exemptions—reserved; and paragraph (d) for indirect and inadvertent residues—reserved.

Compatibility of U.S. tolerances and Codex MRLs exist for dodine residues in/on apples, pears, and peaches and will exist between the proposed reassessed U.S. tolerances and Codex MRLs in or on sweet and tart cherries.

4. DCPA. There are currently no registered uses for DCPA on corn, lettuce, rutabaga and soybean; however, the tolerances are being retained to cover any inadvertent residues from the rotation of crops to previously DCPA treated fields/crops (1998 RED page 23). EPA is also revising commodity terminology to conform to current Agency practice. Therefore, EPA is proposing to transfer and revise tolerances in 40 CFR 180.185(a) to 40 CFR 180.185(d) for the combined inadvertent residues of the herbicide dimethyl tetrachloroterephthalate (DCPA) and its metabolites monomethyl tetrachloroterephthalate acid (MTP) and terachlorophthalic acid (TCP) (calculated as DCPA) in or on corn, field, forage; corn, field stover; corn, pop, forage; corn, pop, stover; corn, sweet, forage; corn, sweet, stover at 0.4 ppm; corn, grain (including pop and field) at 0.05 ppm to corn, pop, grain at 0.05 ppm and corn, field, grain at 0.05 ppm; corn, sweet, kernel plus cob with husks removed at 0.05 ppm; lettuce at 2 ppm to 2.0 ppm; rutabagas at 2 ppm to rutabaga at 2.0 ppm; and soybean at 2 ppm to 2.0 ppm.

Currently, the tolerances for basil, fresh leaves and basil, dried leaves are 20.0 ppm and 5.0 ppm, respectively, as published August 20, 2004 (69 FR 51571) (FRL-7673-6), and were intended for inadvertent residues rather than direct use tolerances. These tolerances should be corrected, switching the tolerance levels to basil, fresh leaves at 5.0 ppm and basil, dried leaves at 20.0 ppm and designated as inadvertent residue tolerances. Therefore, EPA is proposing to correct and transfer the tolerances in 40 CFR 180.185(a) to 40 CFR 180.185(d) for the combined inadvertent residues of the herbicide DCPA and its metabolites MTP and TCP (calculated as DCPA) in or on basil, fresh leaves from 20.0 to 5.0 ppm and basil, dried leaves from 5.0 to 20.0 ppm.

The tolerances for celeriac, chicory, chive, coriander, dill, marjoram, parsley, radicchio, and oriental radish as published August 20, 2004 (69 FR 51571) (FRL-7673-6), were tolerances intended to cover inadvertent residues rather than direct use residues. Therefore, EPA is proposing to transfer the tolerances in 40 CFR 180.185(a) to 40 CFR 180.185(d) for the combined inadvertent residues of the herbicide DCPA and its metabolites MTP and TCP (calculated as DCPA) in or on celeriac at 2.0 ppm; chicory, roots at 2.0 ppm; chicory, tops at 5.0 ppm; chive at 5.0 ppm; coriander, leaves at 5.0 ppm; dill at 5.0 ppm; marjoram at 5.0 ppm; parsley, leaves at 5.0 ppm; parsley, dried leaves at 20.0 ppm; radicchio at 5.0 ppm; and radish, oriental at 2.0 ppm.

There are currently no registered uses for DCPA in or on beans (field, mung and succulent), cotton, cucumbers, eggplants, peppers, blackeyed peas, potatoes, squash (winter and summer), sweet potatoes, turnips, leafy brassica vegetables and yams as published August 20, 2004 (69 FR 51571) (FRL-7673-6). However, the tolerances are being retained to cover any inadvertent residues from rotation of crops to previously DCPA treated fields/crops. EPA is also revising commodity terminology to conform to current Agency practice. Therefore, EPA is proposing to revise and transfer tolerances in 40 CFR 180.185(a) to 40 CFR 180.185(d) for the combined inadvertent residues of the herbicide DCPA and its metabolites MTP and TCP (calculated as DCPA) in or on bean, field, dry to bean, dry; bean, mung, seed at 2 ppm; bean, snap, succulent at 2 ppm; cotton, undelinted seed at 0.2 ppm; cucumber at 1.0 ppm; eggplant at 1.0 ppm; pepper at 2 ppm; pimento at 2 ppm; potato at 2 ppm; squash, summer at 1.0 ppm; squash, winter at 1 ppm; pea, blackeyed to pea, blackeyed, seed; radish, oriental to radish, oriental, roots and radish, oriental, tops; sweet potato, roots to sweet potato; turnip to turnip, roots; turnip, greens to turnip, tops; vegetable, brassica, leafy, group 5 at 5 ppm; and yam, true, tuber at 2 ppm.

In addition, EPA is proposing to revise commodity terminology and tolerances to conform to current Agency practice in 40 CFR 180.185(a) for the combined residues of the herbicide DCPA and its metabolites MTP and TCP (calculated as DCPA) in or on melon, honeydew to muskmelon; and onion to onion, bulb.

The are no registered uses for upland cress; therefore, the tolerance is no longer appropriate. Therefore, EPA is proposing to revoke the tolerance in 40 CFR 180.185(a) in/on cress, upland at 5 ppm.

Currently, there are no Codex MRLs in place for DCPA.

5. Endothall. Tolerances are currently established for rice, grain and rice, straw at 0.05(N) ppm. The “N” indicating negligible residues should be deleted in accordance with current Agency practice in 40 CFR 180.293 for the endothall residues of concern in or on rice, grain from 0.05(N) ppm to 0.05 ppm and rice, straw from 0.05(N) ppm to 0.05 ppm.

There is currently an interim tolerance established in 40 CFR 180.293(a)(2) for endothall residues of concern for potable water at 0.2 ppm. EPA's Office of Pesticide Programs no longer regulates pesticides in water by establishing tolerances, but rather by EPA's Office of Water where an appropriate Maximum Concentration Level has been established. Therefore, EPA is proposing to revoke the interim tolerance of 0.2 ppm in 40 CFR 180.293 (a)(2) and redesignating 40 CFR 180.293 (a)(1) and (a)(2) as 40 CFR 180.293(a).

EPA is proposing to revise commodity terminology to conform to current Agency practice in newly revised 40 CFR 180.293(a) from hop to hop, dried cones.

Currently, there are no Codex MRLs in place for endothall.

6. Propyzamide (or pronamide). Currently, 40 CFR 180.317(a) regulates the combined residues of the herbicide propyzamide and its metabolites (containing the 3,5-dichlorobenzoyl moiety calculated as 3,5-dichloro-N-(1,1-dimethyl-2-propynyl)benzamide) and in 40 CFR 180.317(b) only the parent, propyzamide is regulated in error. The Agency has determined the residues for regulation should be corrected in 40 CFR 180.317(b) to include the metabolites. Therefore, EPA proposes correcting the regulatory expression in 40 CFR 180.317(b) to regulate the combined residues of the herbicide propyzamide and its metabolites (containing the 3,5-dichlorobenzoyl moiety calculated as 3,5-dichloro-N-(1,1-dimethyl-2-propynyl)benzamide).

Based on the available field trial data that indicate the combined residues of propyzamide are less than the level of detection (0.01 ppm) in or on artichokes, the Agency determined that the tolerance should be decreased to 0.01 ppm. Therefore, EPA proposes decreasing the tolerance in 40 CFR 180.317(a) for the combined residues of the herbicide propyzamide and its metabolites (containing the 3,5-dichlorobenzoyl moiety calculated as 3,5-dichloro-N-(1,1-dimethyl-2-propynyl)benzamide) in or on artichoke, globe from 0.1 to 0.01 ppm.

In a residue study, two groups of lactating cows were fed alfalfa hay containing 20 to 40 ppm field-aged propyzamide residues for 3 weeks resulting in residues in fat tissues ranging from <0.01 to 0.48 ppm. Based on linear extrapolation of the maximum residues observed in the study and the maximum theoretical dietary burden, the Agency determined that the cattle, goat, hog, horse, and sheep fat tolerances should be raised from 0.02 to 0.20 ppm. Therefore, EPA proposes increasing the tolerances in 40 CFR 180.317(a) for the combined residues of the herbicide propyzamide and its metabolites (containing the 3,5-dichlorobenzoyl moiety calculated as 3,5-dichloro-N-(1,1-dimethyl-2-propynyl)benzamide) in or on cattle, fat from 0.02 to 0.20 ppm; goat, fat from 0.02 to 0.20 ppm; hog, fat from 0.02 to 0.20 ppm; horse, fat from 0.02 ppm to 0.20 ppm; and sheep, fat from 0.02 to 0.20 ppm. The Agency determined that the increased tolerances are safe; i.e., there is a reasonable certainty that no harm will result from aggregate exposure to the pesticide chemical residue.

Tolerances are typically not established for poultry kidneys, consequently, the associated tolerance is not necessary and the Agency determined that the tolerance for poultry, kidney at 0.2 ppm should be revoked. Concomitant with revoking the poultry, kidney tolerance, the tolerance for poultry, meat byproducts (except kidney, liver) should be revised to poultry, meat byproducts, except liver. Therefore, EPA proposes revoking the tolerance in 40 CFR 180.317(a) for the combined propyzamide residues of concern in or on poultry, kidney and revising the tolerance poultry, meat byproducts, (except kidney, liver) to poultry, meat byproducts, except liver.

Based on available confined accumulation in rotational crops data that indicate residues of propyzamide and its metabolites are as high as 0.10 ppm in wheat forage; 0.038 ppm in wheat, grain, and 0.181 ppm in wheat, straw, the Agency determined that tolerances for inadvertent or indirect residues should be established in/on cereal, grain, forage at 0.6 ppm; cereal, grain, hay at 0.2 ppm; and cereal, grain, straw at 0.3 ppm. Therefore, EPA proposes establishing tolerances in 40 CFR 180.317(d) for the combined residues of the herbicide propyzamide and its metabolites (containing the 3,5-dichlorobenzoyl moiety calculated as 3,5-dichloro-N-(1,1-dimethyl-2-propynyl)benzamide) in or on grain, cereal, forage, group 16 at 0.6 ppm; grain, cereal, hay, group 16 at 0.2 ppm; and grain, cereal, straw, group 16 at 0.3 ppm.

Based on the available field trial data that indicate the combined residues of propyzamide are as high as 8.68 ppm in/on alfalfa seed, the Agency determined that a tolerance should be established in/on alfalfa, seed at 10.0 ppm. Therefore, EPA is proposing to establish tolerances in 40 CFR 180.317(a) for the combined propyzamide residues of concern in/on alfalfa, seed at 10.0 ppm. The Agency determined that the increased tolerances are safe; i.e., there is a reasonable certainty that no harm will result from aggregate exposure to the pesticide chemical residue.

EPA is also revising commodity terminology to conform to current Agency practice. Therefore, EPA proposes modifying a tolerance in 40 CFR 180.317(a) in/on lettuce to lettuce, head; fruit, stone to fruit, stone group 12; nongrass animal feeds to animal feed, nongrass, group 18; radicchio, greens (tops) to radicchio; cattle, meat byproducts, except kidney, liver; goat, meat byproducts, except kidney, liver; hog, meat byproducts, except kidney, liver; horse, meat byproducts, except kidney, liver; sheep, meat byproducts, except kidney, liver to cattle, meat byproducts, except kidney and liver; goat, meat byproducts, except kidney and liver; hog, meat byproducts, except kidney and liver; horse, meat byproducts, except kidney and liver; and sheep, meat byproducts, except kidney and liver and in 40 CFR 180.317(c) in/on pea, dried, winter to pea, field, seed.

Currently, there are no Codex MRLs in place for propyzamide.

7. Ethofumesate. Tolerances in 40 CFR 180.345(a)(1) and (a)(2) are regulated for the combined residues of the herbicide ethofumesate (2-ethoxy-2,3-dihydro-3,3-dimethyl-5-benzofuranyl methanesulfonate) and its metabolites 2-hydroxy-2,3-dihydro-3,3-dimethyl-5-benzofuranyl methanesulfonate and 2,3-dihydro-3,3-dimethyl-2-oxo-5-benzofuranyl methanesulfonate both calculated as parent compound in/on raw agricultural commodities for (a)(1) and in/on the processed feeds when present as a result of application to growing crops. When the residues of concern are the same for both processed feeds and the raw agricultural commodities, it is administrative practice to regulate them in the same paragraph. Therefore, EPA proposes combining the tolerances in 40 CFR 180.345(a)(1) and (a)(2) into 40 CFR 180.345(a).

As there are presently no regulated poultry or swine feed items associated with the registrated uses of ethofumesate, the hog fat, meat, and meat byproduct tolerances are no longer needed. Also, based on available field trial data that indicate residues of ethofumesate and its regulated metabolites are as high as 0.25 ppm in/on sugar beet roots, 3.1 ppm in/on sugar beet tops, 4.28 ppm in/on garden beet tops, the Agency determined that the tolerances should be increased to 0.3 ppm on sugar beet roots, 4.0 ppm sugar beet tops, and 5.0 ppm in/on garden beet tops. Therefore, EPA is proposing to revoke the tolerances in newly revised 40 CFR 180.345(a) for the combined residues of the herbicide ethofumesate (2-ethoxy-2,3-dihydro-3,3-dimethyl-5-benzofuranyl methanesulfonate) and its metabolites 2-hydroxy-2,3-dihydro-3,3-dimethyl-5-benzofuranyl methanesulfonate and 2,3-dihydro-3,3-dimethyl-2-oxo-5-benzofuranyl methanesulfonate both calculated as parent compound in/on hog, fat at 0.05 ppm, hog, meat at 0.05 ppm and hog, meat byproducts at 0.05 ppm. Also, EPA proposes increasing the tolerances in/on beet, sugar, roots from 0.1 to 0.3 ppm; beet, sugar, tops from 1.00 to 4.0 ppm; beet, garden, tops from 4.0 to 5.0 ppm in newly revised 40 CFR 180. 345(a). The Agency determined that the increased tolerances are safe; i.e., there is a reasonable certainty that no harm will result from aggregate exposure to the pesticide chemical residue.

Based on the 0.5x processing factor for refined sugar and the highest average field trial residues of 0.25 ppm in beet roots, the expected combined ethofumesate residues of concern would be 0.125 ppm in refined sugar; therefore, the Agency has determined the tolerance for refined sugar should be 0.20 ppm. EPA is also modifying commodity terminology to conform to current Agency practice. Therefore, EPA is proposing to establish the tolerances in newly revised 40 CFR 180.345(a) for the combined residues of the herbicide ethofumesate (2-ethoxy-2,3-dihydro-3,3-dimethyl-5-benzofuranyl methanesulfonate) and its metabolites 2-hydroxy-2,3-dihydro-3,3-dimethyl-5-benzofuranyl methanesulfonate and 2,3-dihydro-3,3-dimethyl-2-oxo-5-benzofuranyl methanesulfonate both calculated as parent compound in/on beet, sugar, refined sugar at 0.20 ppm. Also, EPA proposes modifying tolerances in newly recodified 40 CFR 180.345(a) from sugar beet molasses to beet, sugar, molasses.

Since publication of the RED, EPA established tolerances in 40 CFR 180.345 in/on garden beets, sugar beets and carrots.

Currently, there are no Codex MRLs in place for ethofumesate.

8. Permethrin. The tolerance on cotton, undelinted seed at 0.5 ppm in 40 CFR 180.378(a) expired on November 15, 1997, and should be removed from the CFR. Because the only tolerance in 40 CFR 180.378(a) has expired, EPA proposes removing existing 40 CFR 180.378(a) in its entirety. Currently, tolerances in 40 CFR 180.378(b) permethrin [(3-phenoxyphenyl)methyl 3-(2,2-dichloroethenyl)-2,2-dimethylcyclopropane carboxylate], DCVA [3-(2,2-dichloroethenyl)-2,2-dimethylcyclopropane carboxylate], and MPBA [3-phenoxyphenyl)methanol (3-phenoxybenzoic acid)] on plant commodities; 180.378(c) permethrin, DCVA, MPBA, and 3-phenoxybenzoic acid (3-PBA) in/on animal commodities; and 180.378(d) regional registrations are regulated for permethrin, DCVA and MPBA. Based on new toxicity studies and structural (molecular level) activity relationship (SAR) considerations, the Agency determined that residues of concern for regulation should consist of the cis- and trans-permethrin isomers for both plant and animal commodities. (This change also harmonizes the residues for regulation with MRLs for Codex, Canada and Mexico.) Consequently, the existing separation of plant tolerances in 40 CFR 180.378(b) and animal tolerances in 180.378(c) is no longer needed and should be combined into newly revised 40 CFR 180.378(a). Regional tolerances in 40 CFR 180.378(d) should be transferred to 180.378(c), and newly revised paragraph (b) and (d) should be established and reserved for section 18 emergency exemptions and indirect or inadvertent residues, respectively, in order to conform to current Agency practice. Therefore, EPA proposes changing the tolerance expression and transferring tolerances in 40 CFR 180.378(b) and (c) into 40 CFR 180.378(a) for the combined residues of the insecticide cis- and trans-permethrin isomers [cis-(3-phenoxyphenyl)methyl 3-(2,2-dichloroethenyl)-2,2-dimethylcyclopropane carboxylate] and [trans-(3-phenoxyphenyl)methyl 3-(2,2-dichloroethenyl)-2,2-dimethylcyclopropane carboxylate] in/on food commodities; reserving 40 CFR 180.378(b) for section 18 exemptions; transferring the tolerances in 40 CFR 180.378(d) to 40 CFR 180.378 (c) tolerances with regional registrations for the combined residues of the insecticide cis- and trans-permethrin isomers [cis-(3-phenoxyphenyl)methyl 3-(2,2-dichloroethenyl)-2,2-dimethylcyclopropane carboxylate] and [trans-(3-phenoxyphenyl)methyl 3-(2,2-dichloroethenyl)-2,2-dimethylcyclopropane carboxylate] in/on food commodities; and reserving 40 CFR 180.378(d) for indirect or inadvertent residues.

EPA is modifying commodity terminology to conform to current Agency administrative practice and based on available field trial data that indicate residues of permethrin as high as 15.2 ppm in/on alfalfa (fresh), 44.5 ppm in/on alfalfa hay, 4.0 ppm in/on globe artichokes, 0.32 ppm in/on cauliflower, 42.6 ppm in/on corn forage, 27.1 ppm in/on field and sweet corn stover, 0.26 ppm in/on eggplant, 0.48 ppm in/on horseradish, 4.9 ppm in/on mushrooms, 0.92 ppm in/on peaches, <0.02 ppm in/on pears and apples, 0.47 in/on bell peppers, 1.27 ppm in/on squash, 0.52 ppm in/on cucumbers and 1.2 ppm in/on melons (where squash, cucumber and melon are representative of the vegetable cucurbit group 9); the Agency determined that the tolerance should be decreased to 20.0 ppm in/on alfalfa, forage; 45 ppm in/on alfalfa, hay; 5.0 ppm in/on artichoke, globe; 0.50 ppm in/on cauliflower; 0.50 ppm in/on eggplant; 0.5 ppm in/on horseradish; 5.0 ppm in/on mushroom; 0.50 ppm in/on pepper, bell; 1.0 ppm in/on peach; 0.05 ppm in/on fruit, pome, group 11 (in place of individual apple and pear tolerances); 1.50 ppm in/on vegetable, cucurbit, group 9. The Agency also determined that the tolerances should be decreased and separated (by field, sweet, and pop varieties) for corn, forage; and corn, stover as follows: 50 ppm in/on corn, field, forage; 50 ppm in/on corn, sweet, forage; 30 ppm in/on corn, field, stover; 30 ppm in/on corn, pop, stover; and 30 ppm in/on corn, sweet, stover. Therefore, EPA proposes decreasing and revising tolerances in newly revised 40 CFR 180.378(a) for the combined permethrin residues of concern in/on alfalfa, forage from 25.0 to 20 ppm; alfalfa, hay from 55.0 to 45 ppm; artichoke, globe from 10.0 to 5.0 ppm; cauliflower from 1.0 to 0.50 ppm; corn, forage from 60.0 ppm to corn, field, forage at 50 ppm and corn, sweet, forage at 50 ppm; corn, stover at 60.0 ppm to corn, field, stover at 30 ppm and corn, pop, stover at 30 ppm and corn, sweet, stover at 30 ppm; eggplant from 1.0 to 0.50 ppm; horseradish from 1.0 to 0.50 ppm; mushroom from 6.0 to 5.0 ppm; pepper, bell from 1.0 to 0.5 ppm; peach from 5.0 to 1.0 ppm; apple at 0.05 ppm and pear at 3.0 ppm to fruit, pome, group 11 at 0.05 ppm; vegetable, cucurbit, group 9 from 3.0 to 1.50 ppm.

Based on a cattle/ruminant feeding study (at 10 and 50 ppm) and the maximum theoretical dietary burden (MTDB) of 40.3 ppm for dairy cattle, the maximum expected residues of permethrin would be 0.088 ppm in whole milk (2.20 ppm in milk fat), 0.064 ppm in meat, 0.88 ppm in fat, and 0.048 ppm in meat byproducts, the Agency determined the tolerances should be 1.5 ppm for cattle, goat, horse, and sheep fat; 0.10 ppm for cattle, goat, horse, and sheep meat; 0.10 ppm for cattle, goat, horse, and sheep meat byproducts; and 3.0 ppm for milk, fat. A hog feeding study is not available; however, the maximum potential residues resulting from dietary exposure can be estimated for hogs using data from the above ruminant feeding study. The 10 ppm feeding level in the cattle feeding study is equivalent to 167x the MTDB for swine. The maximum expected residues for permethrin in hogs would be <0.01 ppm in meat, meat byproducts, and in fat; therefore, the Agency has determined the tolerances should be 0.05 ppm for hog fat, meat and meat byproducts. Based on poultry feeding studies and the MTDB of 4.05 ppm and 11 ppm for poultry, the maximum potential residues of permethrin would be 0.025 ppm in eggs; <0.01 ppm in liver; 0.009 ppm in muscle; and 0.25-0.30 ppm in fat, the Agency determined the tolerances should be 0.10 ppm for egg and 0.05 ppm for poultry meat byproducts. Therefore, EPA proposes decreasing and modifying tolerances in newly revised 40 CFR 180.378(a) for the combined permethrin residues of concern in/on cattle, fat from 3.0 to 1.50 ppm; cattle, meat from 0.25 to 0.10 ppm; cattle, meat byproducts from 2.0 to 0.10 ppm; egg from 1.0 to 0.10 ppm; goat, fat from 3.0 to 1.50 ppm; goat, meat from 0.25 to 0.10 ppm; goat, meat byproducts from 2.0 to 0.10 ppm; hog, fat from 3.0 to 0.05 ppm; hog, meat from 0.25 to 0.05 ppm; hog, meat byproducts from 3.0 to 0.05 ppm; horse, fat from 3.0 to 1.50 ppm; horse, meat from 0.25 to 0.10 ppm; horse, meat byproducts from 2.0 to 0.10 ppm; milk, fat (reflecting 0.25 ppm in whole milk) from 6.25 to milk, fat (reflecting 0.88 ppm in whole milk) at 3.0 ppm; poultry, meat byproducts from 0.25 to 0.05 ppm; sheep, fat from 3.0 to 1.50 ppm; sheep, meat from 0.25 to 0.10 ppm; and sheep, meat byproducts from 2.0 to 0.10 ppm.

Based on available field trial data that indicate residues of permethrin as high as 11.27 ppm in/on collards, 8.25 ppm in/on turnip greens and 0.12 ppm in/on turnip roots, the Agency determined that the tolerance should be decreased to 15 ppm in/on collards; 10 ppm in/on turnip, greens; and 0.20 ppm in/on turnip, roots. Therefore, EPA proposes decreasing and revising tolerances in newly revised 40 CFR 180.378(c) for the combined permethrin residues of concern in/on collards from 20 to 15 ppm; turnip, greens from 20 ppm to turnip, tops at 10 ppm; and turnip, roots from 1 to 0.20 ppm. EPA also proposes recodifying and revising grass, range at 15 ppm in newly revised 40 CFR 180.378(a) to 40 CFR 180.378(c) as grass, hay at 15 ppm and grass, forage at 15 ppm.

Based on available field trial data that indicate residues of permethrin as high as 1.24 ppm in/on asparagus, 1.76 ppm in/on broccoli, and 3.94 ppm in/on cherries, the Agency determined that the tolerance should be increased to 2.0 ppm in/on asparagus, 2.0 ppm in/on broccoli, and 4.0 ppm in/on cherry. Therefore, EPA proposes increasing and revising tolerances in newly revised 40 CFR 180.378(a) for the combined permethrin residues of concern in/on asparagus from 1.0 to 2.0 ppm; broccoli from 1.0 to 2.0 ppm; and cherry from 3.0 to cherry, sweet at 4.0 ppm and cherry, tart at 4.0 ppm. The Agency determined that the increased tolerances are safe; i.e., there is a reasonable certainty that no harm will result from aggregate exposure to the pesticide chemical residue.

Based on available field trial data that indicate residues of permethrin as high as 4.0 ppm in/on celery, the Agency has determined the individual tolerance on celery should be replaced with the leaf petioles subgroup 4B at 5.0 ppm. Based on available data that indicate residues of permethrin as high as 0.386 ppm in/on aspirated grain fractions, the Agency has determined the tolerance should be established for grain, aspirated fractions at 0.50 ppm. Therefore, EPA proposes establishing the tolerance in newly revised 40 CFR 180.378(a) for the combined permethrin residues of concern in/on grain, aspirated fractions at 0.50 ppm and revising from celery to leaf petioles subgroup 4B at 5.0 ppm.

EPA is also modifying commodity terminology to conform to current Agency administrative practice; therefore, the Agency proposes revising the terminology for tolerances in newly revised 40 CFR 180.378(a) for the combined residues of the insecticide permethrin [(3-phenoxyphenyl)methyl 3-(2,2-dichloroethenyl)-2,2-dimethylcyclopropane carboxylate] and its cis- and trans-isomers in/on corn, grain to corn, field, grain and corn, pop, grain; filbert to hazelnut; onion, dry bulb to onion, bulb; garlic to garlic, bulb; and soybean to soybean, seed.

The proposed tolerance actions herein for permethrin, to implement the recommendations of the permethrin RED, reflect use patterns in the U.S. which support a different tolerance than the Codex level on pome fruit, asparagus, eggplant, cherries, peaches, bell peppers, and meats of cattle, goats, hogs, horses, sheep and poultry because of differences in good agricultural practices and determination of secondary residue levels in livestock commodities. However, compatibility currently exists with potatoes and soybean seed, and will exist between the proposed reassessed U.S. tolerances and Codex MRLs for permethrin residues in or on broccoli, cauliflower, eggs, and horseradish.

9. Dimethipin. The available animal feeding study data reflecting exaggerated dosing levels indicate that there is no expectation of finite residues (category 3 of 40 CFR 180.6(a)(3)) in the fat, meat, and meat byproducts of cattle, goats, hogs, horses, and sheep so that a tolerance is not necessary for the fat, meat and meat byproducts of cattle, goats, hogs, horses, and sheep and should be revoked. However, the Agency has decided to retain the tolerances in the meat and meat byproducts of cattle, goats, hogs, horses, and sheep solely to harmonize with Codex MRLs. Therefore, the Agency has determined to retain and decrease the tolerances from 0.02 to 0.01 ppm in meat and meat byproducts of cattle, goats, hogs, horses, and sheep to harmonize with current Codex MRLs (which were reduced from 0.02 ppm to 0.01 ppm since publication of the RED). Therefore, EPA proposes revoking the tolerances in 40 CFR 180.406(a) for dimethipin residues of concern in or on cattle, fat at 0.02 ppm; goat, fat at 0.02 ppm; hog, fat at 0.02 ppm, horse, fat at 0.02 ppm and sheep fat at 0.02 ppm and decreasing the tolerances in/on cattle, meat from 0.02 to 0.01 ppm; cattle, meat byproducts from 0.02 to 0.01 ppm; goat, meat from 0.02 to 0.01 ppm; goat, meat byproducts from 0.02 to 0.01 ppm; hog, meat from 0.02 to 0.01 ppm; hog, meat byproducts from 0.02 to 0.01 ppm; horse, meat from 0.02 to 0.01 ppm; horse, meat byproducts from 0.02 to 0.01 ppm; sheep, meat from 0.02 to 0.01 ppm; and sheep, meat byproducts from 0.02 to 0.01ppm.

Tolerances are currently established on cotton, undelinted seed at 0.05 ppm and cotton, hulls at 0.7 ppm. Because the processing data for cotton, hulls indicate an average concentration factor of 0.95x, tolerances for cotton, hulls are not necessary since residues do not concentrate and the tolerance for cotton, undelinted seed will cover residues on cotton hulls. Therefore, EPA is proposing to revoke the tolerances in 40 CFR 180.406(a) for dimethipin residues of concern in/on cotton, hulls at 0.7 ppm.

Currently, the Codex MRLs and U.S. tolerances for dimethipin are not harmonized in/on cotton seed and cotton seed oil because of differences in good agricultural practices. However, the proposed tolerance actions herein to implement the dimethipin RED will harmonize U.S. tolerances and Codex MRLs in or on meat and meat byproducts of cattle, goats, hogs, horses and sheep.

10. Fenarimol. Currently, the tolerance in 40 CFR 180.421(a) for residues of fenarimol in/on apple is 0.1 ppm (September 15, 2006, 71 FR 54423) (FRL-8077-9). The Codex MRL is 0.3 ppm. EPA proposes increasing the tolerances in 40 CFR 180.421(a) for residues of fenarimol in/on apple from 0.1 to 0.3 ppm in order to harmonize with Codex in response to concerns raised by the Chinese after publication of the September 15, 2006 Federal Register rulemaking. The Agency determined that the increased tolerances are safe; i.e., there is a reasonable certainty that no harm will result from aggregate exposure to the pesticide chemical residue.

11. Fomesafen. Currently, the tolerance in 40 CFR 180.433(a) for residues of fomesafen in/on bean, dry and bean, snap, succulent are each 0.025 ppm (May 3, 2006 (71 FR 25945) (FRL-8062-6). The Canadian MRL is 0.05 ppm bean, dry and bean, snap, succulent. EPA proposes increasing the tolerances in 40 CFR 180.433(a) for residues of fomesafen in/on bean, dry and bean, snap, succulent from 0.025 to 0.05 ppm in order to harmonize with the Canadian MRLs in support of North American Free Trade Agreement (NAFTA). The Agency determined that the increased tolerances are safe; i.e., there is a reasonable certainty that no harm will result from aggregate exposure to the pesticide chemical residue.

B. What is the Agency's Authority for Taking this Action?

A “tolerance” represents the maximum level for residues of pesticide chemicals legally allowed in or on raw agricultural commodities and processed foods. Section 408 of FFDCA, 21 U.S.C. 346a, as amended by the FQPA of 1996, Public Law 104-170, authorizes the establishment of tolerances, exemptions from tolerance requirements, modifications in tolerances, and revocation of tolerances for residues of pesticide chemicals in or on raw agricultural commodities and processed foods. Without a tolerance or exemption, food containing pesticide residues is considered to be unsafe and therefore “adulterated” under section 402(a) of the FFDCA, 21 U.S.C. 342(a). Such food may not be distributed in interstate commerce (21 U.S.C. 331(a)). For a food-use pesticide to be sold and distributed, the pesticide must not only have appropriate tolerances under the FFDCA, but also must be registered under FIFRA (7 U.S.C. 136 et seq.). Food-use pesticides not registered in the United States must have tolerances in order for commodities treated with those pesticides to be imported into the United States.

EPA is proposing these tolerance actions to implement the tolerance recommendations made during the reregistration and tolerance reassessment processes (including follow-up on canceled or additional uses of pesticides). As part of these processes, EPA is required to determine whether each of the amended tolerances meets the safety standard of the Food Quality Protection Act (FQPA). The safety finding determination is discussed in detail in each post-FQPA RED and TRED for the active ingredient. REDs and TREDs recommend the implementation of certain tolerance actions, including modifications to reflect current use patterns, to meet safety findings, and change commodity names and groupings in accordance with new EPA policy. Printed and electronic copies of the REDs and TREDs are available as provided in Unit II.A.

EPA has issued post-FQPA REDs for 2,4-D, dodine, DCPA, endothall, ethofumesate, permethrin, and dimethipin, and TREDs for captan, propyzamide, and fenarimol, whose REDs were both completed prior to FQPA.¹ REDs and TREDs contain the Agency's evaluation of the data for these pesticides, including requirements for additional data on the active ingredients to confirm the potential human health and environmental risk assessments associated with current product uses, and in REDs state conditions under which these uses and products will be eligible for reregistration. The REDs and TREDs recommended the establishment, modification, and/or revocation of specific tolerances. RED and TRED recommendations such as establishing or modifying tolerances, and in some cases revoking tolerances, are the result of assessment under the FQPA standard of “reasonable certainty of no harm.” However, tolerance revocations recommended in REDs and TREDs that are proposed in this document do not need such assessment when the tolerances are no longer necessary.

¹ A RED for fomesafen was not needed because it was registered after November 1, 1984 and not subject to reregistration eligibility, and its tolerances were reassessed prior to completion of a TRED, such that a RED for fomesafen was no longer needed because EPA made a safety finding which reassessed its tolerances according to FQPA standards.

EPA's general practice is to propose revocation of tolerances for residues of pesticide active ingredients on crops for which FIFRA registrations no longer exist and on which the pesticide may therefore no longer be used in the United States. EPA has historically been concerned that retention of tolerances that are not necessary to cover residues in or on legally treated foods may encourage misuse of pesticides within the United States. Nonetheless, EPA will establish and maintain tolerances even when corresponding domestic uses are canceled if the tolerances, which EPA refers to as “import tolerances,” are necessary to allow importation into the United States of food containing such pesticide residues. However, where there are no imported commodities that require these import tolerances, the Agency believes it is appropriate to revoke tolerances for unregistered pesticides in order to prevent potential misuse.

Furthermore, as a general matter, the Agency believes that retention of import tolerances not needed to cover any imported food may result in unnecessary restriction on trade of pesticides and foods. Under section 408 of the FFDCA, a tolerance may only be established or maintained if EPA determines that the tolerance is safe based on a number of factors, including an assessment of the aggregate exposure to the pesticide and an assessment of the cumulative effects of such pesticide and other substances that have a common mechanism of toxicity. In doing so, EPA must consider potential contributions to such exposure from all tolerances. If the cumulative risk is such that the tolerances in aggregate are not safe, then every one of these tolerances is potentially vulnerable to revocation. Furthermore, if unneeded tolerances are included in the aggregate and cumulative risk assessments, the estimated exposure to the pesticide would be inflated. Consequently, it may be more difficult for others to obtain needed tolerances or to register needed new uses. To avoid potential trade restrictions, the Agency is proposing to revoke tolerances for residues on crops uses for which FIFRA registrations no longer exist, unless someone expresses a need for such tolerances. Through this proposed rule, the Agency is inviting individuals who need these import tolerances to identify themselves and the tolerances that are needed to cover imported commodities.

Parties interested in retention of the tolerances should be aware that additional data may be needed to support retention. These parties should be aware that, under FFDCA section 408(f), if the Agency determines that additional information is reasonably required to support the continuation of a tolerance, EPA may require that parties interested in maintaining the tolerances provide the necessary information. If the requisite information is not submitted, EPA may issue an order revoking the tolerance at issue.

When EPA establishes tolerances for pesticide residues in or on raw agricultural commodities, consideration must be given to the possible residues of those chemicals in meat, milk, poultry, and/or eggs produced by animals that are fed agricultural products (for example, grain or hay) containing pesticides residues (40 CFR 180.6). When considering this possibility, EPA can conclude that:

1. Finite residues will exist in meat, milk, poultry, and/or eggs.

2. There is a reasonable expectation that finite residues will exist.

3. There is a reasonable expectation that finite residues will not exist. If there is no reasonable expectation of finite pesticide residues in or on meat, milk, poultry, or eggs, tolerances do not need to be established for these commodities (40 CFR 180.6(b) and (c)).

EPA has evaluated certain specific meat, milk, poultry, and egg tolerances proposed for revocation in this proposed rule and has concluded that there is no reasonable expectation of finite pesticide residues of concern in or on those commodities.

C. When do These Actions Become Effective?

EPA is proposing that modifications, establishment, commodity terminology revisions, and revocation of these tolerances become effective on the date of publication of the final rule in the Federal Register because (1) with respect to the revocations, their associated uses have been canceled for several years and (2) none of the other tolerance actions proposed here are expected to result in adulterated commodities. The Agency believes that with respect to the tolerances proposed for revocation, treated commodities have had sufficient time for passage through the channels of trade. However, if EPA is presented with information that existing stocks would still be available and that information is verified, the Agency will consider extending the expiration date of the tolerance. If you have comments regarding existing stocks and whether the effective date allows sufficient time for treated commodities to clear the channels of trade, please submit comments as described under SUPPLEMENTARY INFORMATION.

Any commodities listed in this proposal treated with the pesticides subject to this proposal, and in the channels of trade following the tolerance revocations, shall be subject to FFDCA section 408(1)(5), as established by FQPA. Under this section, any residues of these pesticides in or on such food shall not render the food adulterated so long as it is shown to the satisfaction of the Food and Drug Administration that:

1. The residue is present as the result of an application or use of the pesticide at a time and in a manner that was lawful under FIFRA, and

2. The residue does not exceed the level that was authorized at the time of the application or use to be present on the food under a tolerance or exemption from a tolerance. Evidence to show that food was lawfully treated may include records that verify the dates when the pesticide was applied to such food.

III. Are the Proposed Actions Consistent with International Obligations?

The tolerance revocations in this proposal are not discriminatory and are designed to ensure that both domestically produced and imported foods meet the food safety standard established by the FFDCA. The same food safety standards apply to domestically produced and imported foods.

In making its tolerance decisions, EPA seeks to harmonize U.S. tolerances with international standards whenever possible, consistent with U.S. food safety standards and agricultural practices. EPA considers the international MRLs established by the Codex Alimentarius Commission, as required by section 408(b)(4) of the FFDCA. The Codex Alimentarius is a joint U.N. Food and Agriculture Organization/World Health Organization food standards program, and it is recognized as an international food safety standards-setting organization in trade agreements to which the United States is a party. EPA may establish a tolerance that is different from a Codex MRL; however, FFDCA section 408(b)(4) requires that EPA explain the reasons for departing from the Codex level in a notice published for public comment. EPA's effort to harmonize with Codex MRLs is summarized in the tolerance reassessment section of individual REDs and TREDs, and in the Residue Chemistry document which supports the RED and TRED, as mentioned in Unit II.A. Specific tolerance actions in this proposed rule and how they compare to Codex MRLs (if any) are discussed in Unit II.A.

IV. Statutory and Executive Order Reviews

In this proposed rule, EPA is proposing to establish tolerances under FFDCA section 408(e), or also modify and revoke specific tolerances established under FFDCA section 408. The Office of Management and Budget (OMB) has exempted these types of actions (e.g., establishment and modification of a tolerance and tolerance revocation for which extraordinary circumstances do not exist) from review under Executive Order 12866, entitled Regulatory Planning and Review (58 FR 51735, October 4, 1993). Because this proposed rule has been exempted from review under Executive Order 12866 due to its lack of significance, this proposed rule is not subject to Executive Order 13211, Actions Concerning Regulations That Significantly Affect Energy Supply, Distribution, or Use (66 FR 28355, May 22, 2001). This proposed rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations as required by Executive Order 12898, entitled Federal Actions to Address Environmental Justice in Minority Populations and Low-Income Populations (59 FR 7629, February 16, 1994); or OMB review or any other Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). Pursuant to the Regulatory Flexibility Act (RFA) (5 U.S.C. 601 et seq.), the Agency previously assessed whether establishment of tolerances, exemptions from tolerances, raising of tolerance levels, expansion of exemptions, or revocations might significantly impact a substantial number of small entities and concluded that, as a general matter, these actions do not impose a significant economic impact on a substantial number of small entities. These analyses for tolerance establishments and modifications, and for tolerance revocations were published on May 4, 1981 (46 FR 24950) and on December 17, 1997 (62 FR 66020), respectively, and were provided to the Chief Counsel for Advocacy of the Small Business Administration. Taking into account this analysis, and available information concerning the pesticides listed in this proposed rule, the Agency hereby certifies that this proposed action will not have a significant negative economic impact on a substantial number of small entities. In a memorandum dated May 25, 2001, EPA determined that eight conditions must all be satisfied in order for an import tolerance or tolerance exemption revocation to adversely affect a significant number of small entity importers, and that there is a negligible joint probability of all eight conditions holding simultaneously with respect to any particular revocation. (This Agency document is available in the docket of this proposed rule). Furthermore, for the pesticides named in this proposed rule, the Agency knows of no extraordinary circumstances that exist as to the present proposal that would change EPA's previous analysis. Any comments about the Agency's determination should be submitted to EPA along with comments on the proposal, and will be addressed prior to issuing a final rule. In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” This proposed rule directly regulates growers, food processors, food handlers and food retailers, not States. This action does not alter the relationships or distribution of power and responsibilities established by Congress in the preemption provisions of section 408(n)(4) of the FFDCA. For these same reasons, the Agency has determined that this proposed rule does not have any “tribal implications” as described in Executive Order 13175, entitled Consultation and Coordination with Indian Tribal Governments (65 FR 67249, November 6, 2000). Executive Order 13175, requires EPA to develop an accountable process to ensure “meaningful and timely input by tribal officials in the development of regulatory policies that have tribal implications.” “Policies that have tribal implications” is defined in the Executive Order to include regulations that have “substantial direct effects on one or more Indian tribes, on the relationship between the Federal Government and the Indian tribes, or on the distribution of power and responsibilities between the Federal Government and Indian tribes.” This proposed rule will not have substantial direct effects on tribal governments, on the relationship between the Federal Government and Indian tribes, or on the distribution of power and responsibilities between the Federal Government and Indian tribes, as specified in Executive Order 13175. Thus, Executive Order 13175 does not apply to this proposed rule.

List of Subjects in 40 CFR Part 180

Environmental protection, Administrative practice and procedure, Agricultural commodities, Pesticides and pests, Reporting and recordkeeping requirements.

Dated: May 30, 2007.
Debra Edwards,
Director, Office of Pesticide Programs.

Therefore, it is proposed that 40 CFR chapter I be amended as follows:

PART 180—[AMENDED]

1. The authority citation for part 180 continues to read as follows:

Authority: 21 U.S.C. 321(q), 346a and 371.

2. Section 180.103 is revised to read as follows:

§ 180.103 Captan; tolerances for residues.

(a)(1) General. Tolerances are established for residues of the fungicide, captan (N-trichloromethylthio-4-cyclohexene-1,2-dicarboximide) in or on the following commodities:

Commodity | Parts per million
Almond | 0.25
Almond, hulls | 75.0
Animal feed, nongrass, group 18 | 0.05
Apple | 25.0
Apricot | 10.0
Blueberry | 20.0
Caneberry, subgroup 13A | 25.0
Cherry, sweet | 50.0
Cherry, tart | 50.0
Cotton, undelinted seed | 0.05
Dill, seed | 0.05
Flax, seed | 0.05
Grape | 25.0
Grain, cereal, forage, fodder and straw, group 16 | 0.05
Grain, cereal, group 15 | 0.05
Grass, forage | 0.05
Grass, hay | 0.05
Nectarine | 25.0
Okra | 0.05
Peach | 15.0
Peanut | 0.05
Peanut, hay | 0.05
Pear | 25.0
Plum, prune, fresh | 10.0
Rapeseed, forage | 0.05
Rapeseed, seed | 0.05
Safflower, seed | 0.05
Sesame, seed | 0.05
Strawberry | 20.0
Sunflower, seed | 0.05
Vegetable, brassica leafy, group 5 | 0.05
Vegetable, bulb, group 3 | 0.05
Vegetable, cucurbit, group 9 | 0.05
Vegetable, foliage of legume, group 7 | 0.05
Vegetable, fruiting, group 8 | 0.05
Vegetable, leafy, except brassica, group 4 | 0.05
Vegetable, leaves of root and tuber, group 2 | 0.05
Vegetable, legume, group 6 | 0.05
Vegetable, root and tuber, group 1 | 0.05

(2) Tolerances are established for the combined residues of the fungicide, captan (N-trichloromethylthio-4-cyclohexene-1,2-dicarboximide) and its metabolite 1,2,3,6-tetrahydrophthalimide (THPI), measured at THPI, in or on the following commodities:

Commodity | Parts per million
Cattle, fat | 0.15
Cattle, meat | 0.20
Cattle, meat byproducts | 0.30
Goat, fat | 0.15
Goat, meat | 0.20
Goat, meat byproducts | 0.30
Hog, fat | 0.15
Hog, meat | 0.20
Hog, meat byproducts | 0.30
Horse, fat | 0.15
Horse, meat | 0.20
Horse, meat byproducts | 0.30
Milk | 0.10
Sheep, fat | 0.15
Sheep, meat | 0.20
Sheep, meat byproducts | 0.30

(b) Section 18 emergency exemptions. [Reserved]

(c) Tolerances with regional registrations. [Reserved]

(d) Indirect or inadvertent residues. [Reserved]

3. Section 180.142 is revised to read as follows:

§ 180.142 2, 4-D; tolerances for residues

(a) General. Tolerances are established for residues of the herbicide, plant regulator, and fungicide 2, 4-D (2,4-dichlorophenoxyacetic acid), both free and conjugated, determined as the acid, in or on the following food commodities:

Commodity | Parts per million
Almond hulls | 0.1
Asparagus | 5.0
Barley, bran | 4.0
Barley, grain | 2.0
Barley, straw | 50
Berry, group 13 | 0.2
Cattle, fat | 0.3
Cattle, kidney | 4.0
Cattle, meat | 0.3
Cattle, meat byproducts, except kidney | 0.3
Corn, field, forage | 6.0
Corn, field, grain | 0.05
Corn, field, stover | 50
Corn, pop, grain | 0.05
Corn, pop, stover | 50
Corn, sweet, forage | 6.0
Corn, sweet, kernel plus cob with husks removed | 0.05
Corn, sweet, stover | 50
Fish | 0.1
Fruit, citrus, group 10 | 3.0
Fruit, pome, group 11 | 0.1
Fruit, stone, group 12 | 0.1
Goat, fat | 0.3
Goat, kidney | 4.0
Goat, meat | 0.3
Goat, meat byproducts, except kidney | 0.3
Grain, aspirated fractions | 40
Grape | 0.1
Grass, forage | 360
Grass, hay | 300
Hop, dried cones | 0.2
Horse, fat | 0.3
Horse, kidney | 4.0
Horse, meat | 0.3
Horse, meat byproducts, except kidney | 0.3
Millet, forage | 25
Millet, grain | 2.0
Millet, straw | 50
Milk | 0.05
Nut, tree, group 14 | 0.2
Oat, forage | 25
Oat, grain | 2.0
Oat, straw | 50
Pistachio | 0.05 | Potato | 0.4
Rice, grain | 0.5
Rice, hulls | 2.0
Rice, straw | 10
Rye, bran | 4.0
Rye, forage | 25
Rye, grain | 2.0
Rye, straw | 50
Sheep, fat | 0.3
Sheep, kidney | 4.0
Sheep, meat | 0.3
Sheep, meat byproducts, except kidney | 0.3
Shellfish | 1.0
Sorghum, grain, forage | 0.2
Sorghum, grain, grain | 0.2
Sorghum, grain, stover | 0.2
Soybean, forage | 0.02
Soybean, hay | 2.0
Soybean, seed | 0.02
Strawberry | 0.1
Sugarcane, cane | 0.05
Sugarcane, molasses | 0.2
Vegetable, leaves of root and tuber, except potato, group 2 | 0.1
Vegetable, root and tuber, except potato, group 1 | 0.1
Wheat, bran | 4.0
Wheat, forage | 25
Wheat, grain | 2.0
Wheat, straw | 50

(b) Section 18 emergency exemptions. [Reserved]

(c) Tolerances with regional registrations. Tolerances with regional registration, as defined in § 180.1(m) are established for residues of the herbicide, plant regulator, and fungicide 2, 4-D (2,4-dichlorophenoxyacetic acid), both free and conjugated, determined as the acid, in or on the following food commodities:

Commodity | Parts per million
Rice, wild, grain | 0.05

(d) Indirect or inadvertent residues. Tolerances are established for indirect or inadvertent residues of the herbicide, plant regulator, and fungicide 2, 4-D (2,4-dichlorophenoxyacetic acid), both free and conjugated, determined as the acid, in or on the following food commodities:

Commodity | Parts per million
Animal feed, nongrass, group 18 | 0.2
Avocado | 0.05
Dill, seed | 0.05
Cotton, undelinted seed | 0.05
Okra | 0.05
Vegetable, brassica leafy, group 5 | 0.4
Vegetable, bulb, group 3 | 0.05
Vegetable, cucurbit, group 9 | 0.05
Vegetable, foliage of legume, group 7 | 0.2
Vegetable, fruiting, group 8 | 0.05
Vegetable, leafy, except brassica, group 4 | 0.4
Vegetable, legume, group 6 | 0.05

4. Section 180.172 is revised to read as follows:

§ 180.172 Dodine; tolerances for residues.

(a) General. Tolerances are established for the fungicide dodine (n-dodecylguanidine acetate) in or on the following food commodities:

Commodity | Parts per million
Apple | 5.0
Apple, wet pomace | 15.0
Cherry, sweet | 3.0
Cherry, tart | 3.0
Peach | 5.0
Pear | 5.0
Pecan | 0.3
Strawberry | 5.0
Walnut | 0.3

(b) Section 18 emergency exemptions. [Reserved]

(c) Tolerances with regional registrations. [Reserved]

(d) Indirect or inadvertent residues. [Reserved]

5. Section 180.185 is revised to read as follows:

§ 180.185 DCPA; tolerances for residues.

(a) General. Tolerances for the combined residues of the herbicide dimethyl tetrachloroterephthalate (DCPA) and its metabolites monomethyltetrachloroterephthalate (MTP) and tetrachloroterephthalic acid (TCP) (calculated as dimethyl tetrachloroterephthalate) are established in or on the following food commodities:

Commodity | Parts per million
Cantaloupe | 1.0
Garlic | 1.0
Ginseng | 2.0
Horseradish | 2.0
Muskmelon | 1.0
Onion, bulb | 1.0
Strawberry | 2.0
Tomato | 1.0
Watermelon | 1.0

(b) Section 18 emergency exemptions. [Reserved]

(c) Tolerances with regional registrations. Tolerances with regional registration, as defined in § 180.1(m) for the combined inadvertent residues of the herbicide dimethyl tetrachloroterephthalate (DCPA) and its metabolites monomethyl tetrachloroterephthalate acid (MTP) and terachlorophthalic acid (TCP) (calculated as DCPA) in or on the following food commodities:

Commodity | Parts per million
Radish, roots | 2.0
Radish, tops | 15.0

(d) Indirect or inadvertent residues. Tolerances for the combined indirect or inadvertent residues of the herbicide dimethyl tetrachloroterephthalate (DCPA) and its metabolites monomethyl tetrachloroterephthalate acid (MTP) and terachlorophthalic acid (TCP) (calculated as DCPA) in or on the following food commodities:

Commodity | Parts per million
Basil, dried leaves | 20.0
Basil, fresh leaves | 5.0
Bean, dry | 2.0
Bean, mung, seed | 2.0
Bean, snap, succulent | 2.0
Celeriac | 2.0
Chicory, roots | 2.0
Chicory, tops | 5.0
Chive | 5.0
Coriander, leaves | 5.0
Corn, field, forage | 0.4
Corn, field, grain | 0.05
Corn, field, stover | 0.4
Corn, pop, forage | 0.4
Corn, pop, grain | 0.05
Corn, pop, stover | 0.4
Corn, sweet, forage | 0.4
Corn, sweet, kernel plus cob with husks removed | 0.05
Corn, sweet, stover | 0.4
Cotton, undelinted seed | 0.2
Cucumber | 1.0
Dill | 5.0
Eggplant | 1.0
Lettuce | 2.0
Marjoram | 5.0
Parsley, dried leaves | 20.0
Parsley, leaves | 5.0
Pea, blackeyed, seed | 2.0
Pepper | 2.0
Pimento | 2.0
Potato | 2.0
Radicchio | 5.0
Radish, oriental, roots | 2.0
Radish, oriental, tops | 2.0
Rutabaga | 2.0
Soybean | 2.0 | Squash, summer | 1.0
Squash, winter | 1.0
Sweet potato | 2.0
Turnip, roots | 2.0
Turnip, tops | 5.0
Vegetable, brassica, leafy, group 5 | 5.0
Yam, true, tuber | 2.0

6. Section 180.293 is amended by revising paragraph (a)(1) to read as follows:

§ 180.293 Endothall; tolerances for residues.

(a) General. (1) Tolerances are established for the combined residues of endothall, 7-oxabicyclo [2, 2, 1] heptane-2, 3-dicarboxylic acid and its monomethyl ester in or on the following food commodities:

Commodity | Parts per million
Cotton, undelinted seed | 0.1
Fish | 0.1
Hop, dried cones | 0.1
Potato | 0.1
Rice, grain | 0.05
Rice, straw | 0.05

* * * * *

7. Section 180.317 is amended by revising the table in paragraph (a), and paragraphs (b), (c), and (d), to read as follows:

§ 180.317 Propyzamide; tolerances for residues.

(a) General. * * *

Commodity | Parts per million
Alfalfa, seed | 10.0
Animal feed, nongrass, group 18 | 10.0
Apple | 0.1
Artichoke, globe | 0.01
Blackberry | 0.05
Blueberry | 0.05
Boysenberry | 0.05
Cattle, fat | 0.2
Cattle, kidney | 0.4
Cattle, liver | 0.4
Cattle, meat | 0.02
Cattle, meat byproducts, except kidney and liver | 0.02
Egg | 0.02
Endive | 1.0
Fruit, stone, group 12 | 0.1
Goat, fat | 0.2
Goat, kidney | 0.4
Goat, liver | 0.4
Goat, meat | 0.02
Goat, meat byproducts, except kidney and liver | 0.02
Grape | 0.1
Hog, fat | 0.2
Hog, kidney | 0.4
Hog, liver | 0.4
Hog, meat | 0.02
Hog, meat byproducts, except kidney and liver | 0.02
Horse, fat | 0.2
Horse, kidney | 0.4
Horse, liver | 0.4
Horse, meat | 0.02
Horse, meat byproducts, except kidney and liver | 0.02
Lettuce, head | 1.0
Milk | 0.02
Pear | 0.1
Poultry, fat | 0.02
Poultry, liver | 0.2
Poultry, meat | 0.02
Poultry, meat byproducts, except liver | 0.02
Radicchio | 2.0
Raspberry | 0.05
Sheep, fat | 0.2
Sheep, kidney | 0.4
Sheep, liver | 0.4
Sheep, meat | 0.02
Sheep, meat byproducts, except kidney and liver | 0.02

(b) Section 18 emergency exemptions. Time-limited tolerances are established for the combined residues of the herbicide propyzamide and its metabolites (containing the 3,5-dichlorobenzoyl moiety calculated as 3,5-dichloro-N(1,1-dimethyl-2-propynyl)benzamide) in or on the following food commodities:

Commodity | Parts per million | Expiration/Revocation Date
Cranberry | 0.05 | 12/31/09

(c) Tolerances with regional registrations. Tolerances with regional registration, as defined in § 180.1(m) are established for the combined residues of the herbicide propyzamide and its metabolites (containing the 3,5-dichlorobenzoyl moiety calculated as 3,5-dichloro-N(1,1-dimethyl-2-propynyl)benzamide) in or on the following food commodities:

Commodity | Parts per million
Pea, field, seed | 0.05
Rhubarb | 0.1

(d) Indirect or inadvertent residues. Tolerances are established for the combined indirect or inadvertent residues of the herbicide propyzamide and its metabolites (containing the 3,5-dichlorobenzoyl moiety calculated as 3,5-dichloro-N(1,1-dimethyl-2-propynyl)benzamide) in or on the following food commodities:

Commodity | Parts per million
Grain, cereal, forage, group 16 | 0.6
Grain, cereal, hay, group 16 | 0.2
Grain, cereal, straw, group 16 | 0.3

8. Section 180.345 is amended by revising paragraph (a) to read as follows:

§ 180.345 Ethofumesate; tolerances for residues.

(a) General. Tolerances for the combined residues of the herbicide ethofumesate (2-ethoxy-2,3-dihydro-3,3-dimethyl-5-benzofuranyl methanesulfonate) and its metabolites 2-hydroxy-2,3-dihydro-3,3-dimethyl-5-benzofuranyl methanesulfonate and 2,3-dihydro-3,3-dimethyl-2-oxo-5-benzofuranyl methanesulfonate both calculated as parent compound in or on the following food commodities:

Commodity | Parts per million
Beet, garden, roots | 0.5
Beet, garden, tops | 5.0
Beet, sugar, molasses | 0.5
Beet, sugar, refined sugar | 0.2
Beet, sugar, roots | 0.3
Beet, sugar, tops | 4.0
Cattle, fat | 0.05
Cattle, meat | 0.05
Cattle, meat byproducts | 0.05
Garlic | 0.25
Goat, fat | 0.05
Goat, meat | 0.05
Goat, meat byproducts | 0.05
Grass, straw | 1.0
Horse, fat | 0.05
Horse, meat | 0.05
Horse, meat byproducts | 0.05
Onion, bulb | 0.25
Shallot, bulb | 0.25
Shallot, fresh leaves | 0.25
Sheep, fat | 0.05
Sheep, meat byproducts | 0.05
Sheep, meat | 0.05

9. Section 180.378 is revised to read as follows:

§ 180.378 Permethrin; Tolerances for residues.

(a) General. Tolerances are established for the combined residues of the insecticide cis- and trans-permethrin isomers [cis-(3-phenoxyphenyl)methyl 3-(2,2-dichloroethenyl)-2,2-dimethylcyclopropane carboxylate] and [trans-(3-phenoxyphenyl)methyl 3-(2,2-dichloroethenyl)-2,2-dimethylcyclopropane carboxylate] in/on the following food commodities:

Commodity | Parts per million
Alfalfa, forage | 20
Alfalfa, hay | 45
Almond | 0.05
Almond, hulls | 20
Artichoke, globe | 5.0
Asparagus | 2.0
Avocado | 1.0
Broccoli | 2.0
Brussels sprouts | 1.0
Cabbage | 6.0
Cattle, fat | 1.5
Cattle, meat | 0.10
Cattle, meat byproducts | 0.10
Cauliflower | 0.5
Cherry, sweet | 4.0
Cherry, tart | 4.0
Corn, field, forage | 50
Corn, field, grain | 0.05
Corn, field, stover | 30
Corn, pop, grain | 0.05
Corn, pop, stover | 30
Corn, sweet, forage | 50
Corn, sweet, kernel plus cob with husks removed | 0.10
Corn, sweet, stover | 30
Egg | 0.10
Eggplant | 0.50
Fruit, pome, group 11 | 0.05
Garlic, bulb | 0.10
Grain, aspirated fractions | 0.50
Goat, fat | 1.5
Goat, meat | 0.10
Goat, meat byproducts | 0.10
Hazelnut | 0.05
Hog, fat | 0.05
Hog, meat | 0.05
Hog, meat byproducts | 0.05
Horse, fat | 1.5
Horse, meat | 0.10
Horse, meat byproducts | 0.10
Horseradish | 0.50
Kiwifruit | 2.0
Leaf petioles subgroup 4B | 5.0
Lettuce, head | 20
Milk, fat (reflecting 0.88 ppm in whole milk) | 3.0
Mushroom | 5.0
Onion, bulb | 0.10
Peach | 1.0
Pepper, bell | 0.50
Pistachio | 0.10
Potato | 0.05
Poultry, fat | 0.15
Poultry, meat | 0.05
Poultry, meat byproducts | 0.05
Sheep, fat | 1.5
Sheep, meat | 0.10
Sheep, meat byproducts | 0.10
Soybean, seed | 0.05
Spinach | 20
Tomato | 2.0
Vegetable, cucurbit, group 9 | 1.5
Vegetable, leafy, except brassica, group 4 | 20
Walnut | 0.05
Watercress | 5.0

(b) Section 18 emergency exemptions. [Reserved]

(c) Tolerances with regional registrations. Tolerances with regional registration, as defined in § 180.1(m) are established for the combined residues of the insecticide cis- and trans-permethrin isomers [cis-(3-phenoxyphenyl)methyl 3-(2,2-dichloroethenyl)-2,2-dimethylcyclopropane carboxylate] and [trans-(3-phenoxyphenyl)methyl 3-(2,2-dichloroethenyl)-2,2-dimethylcyclopropane carboxylate] in/on the following food commodities:

Commodity | Parts per million
Collards | 15
Grass, forage | 15
Grass, hay | 15
Papaya | 1.0
Turnip, tops | 10
Turnip, roots | 0.20

(d) Indirect or inadvertent residues. [Reserved]

10. Section 180.406 is amended by revising the table in paragraph (a) to read as follows:

§ 180.406 Dimethipin; tolerances for residues

(a) General. * * *

Commodity | Parts per million
Cotton, undelinted seed | 0.50
Cattle, meat | 0.01
Cattle, meat byproducts | 0.01
Goat, meat | 0.01
Goat, meat byproducts | 0.01
Hog, meat | 0.01
Hog, meat byproducts | 0.01
Horse, meat | 0.01
Horse, meat byproducts | 0.01
Sheep, meat | 0.01
Sheep, meat byproducts | 0.01

11. Section 180.421 is amended by revising the entry for “Apple” in the table in paragraph (a) to read as follows:

§ 180.421 Fenarimol; tolerances for residues

(a) General. * * *

Commodity | Parts per million
Apple | 0.3
* * * * *

* * * * *

12. Section 180.433 is amended by revising the entries for “Bean, dry” and “Bean, snap, succulent” in the table in paragraph (a) to read as follows:

§ 180.433 Fomesafen; tolerances for residues

(a) General. * * *

Commodity | Parts per million
Bean, dry | 0.05
Bean, snap, succulent | 0.05
* * * * *

* * * * *

[FR Doc. E7-10863 Filed 6-5-07; 8:45 am]

BILLING CODE 6560-50-S